DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

A. On May 1, 2024, OFAC determined that the property and interests in property subject to U.S. jurisdiction of the following persons are blocked under the relevant sanctions authorities listed below.

Individuals

1. BUTRYM, Natallia (a.k.a. BUTRIM, Natalya), Russia; DOB 14 Dec 1994; nationality Belarus; Gender Female; Passport KH2926007 (Belarus) expires 12 Sep 2029 (individual) [RUSSIA-EO14024].

Designated pursuant to section 1(a)(i) of Executive Order 14024 of April 15, 2021, “Blocking Property With Respect To Specified Harmful Foreign Activities of the Government of the Russian Federation,” 86 FR 20249, 3 CFR, 2021 Comp., p. 542 (E.O. 14024), as amended by Executive Order 14114 of December 22, 2023, “Taking Additional Steps With Respect to the Russian Federation's Harmful Activities,” 88 FR 89271, 3 CFR, 2023 Comp., p. 271 (E.O. 14114), for operating or having operated in the transportation sector of the Russian Federation economy.

2. KORZHAVIN, Yurii Anatolyevich, Russia; DOB 28 Sep 1957; POB Moscow, Russia; nationality Russia; Gender Male; Tax ID No. 770702814195 (Russia) (individual) [RUSSIA-EO14024].

Designated pursuant to section 1(a)(i) of E.O. 14024 for operating or having operated in the transportation sector of the Russian Federation economy.

3. KORZHAVINA, Lidiya Germanovna, Russia; DOB 22 May 1958; POB Moscow, Russia; nationality Russia; Gender Female; Tax ID No. 771405312885 (Russia) (individual) [RUSSIA-EO14024].

Designated pursuant to section 1(a)(i) of E.O. 14024 for operating or having operated in the transportation sector of the Russian Federation economy.

4. LITVYAKOVA, Anzhelika Anatolyevna, Russia; DOB 11 Feb 1970; nationality Russia; Gender Female; Secondary sanctions risk: this person is designated for operating or having operated in a sector of the Russian Federation economy determined to support Russia's military-industrial base pursuant to section 11 of Executive Order 14024, as amended by Executive Order 14114.; Tax ID No. 241102625389 (Russia) (individual) [RUSSIA-EO14024].

Designated pursuant to section 1(a)(i) of E.O. 14024 for operating or having operated in the manufacturing sector of the Russian Federation economy.

5. PETROV, Evgenii Stanislavich, Russia; DOB 23 Sep 1988; nationality Russia; Gender Male; Passport 732736865 (Russia); Tax ID No. 212405812013 (Russia) (individual) [RUSSIA-EO14024].

Designated pursuant to section 1(a)(i) of E.O. 14024 for operating or having operated in the transportation sector of the Russian Federation economy.

6. LABIN, Viktor Gennadevich (a.k.a. LABIN, Victor Guennadievitch), Avenue Winston Churchill 59 B.11, Brussels 1180, Belgium; Avenue Dolez 243, Uccle 1180, Belgium; DOB 11 Mar 1961; nationality Russia; Gender Male; Secondary sanctions risk: this person is designated for operating or having operated in a sector of the Russian Federation economy determined to support Russia's military-industrial base pursuant to section 11 of Executive Order 14024, as amended by Executive Order 14114.; National ID No. 4508527239 (Russia) (individual) [RUSSIA-EO14024].

Designated pursuant to section 1(a)(i) of E.O. 14024 for operating or having operated in the manufacturing sector of the Russian Federation economy.

7. LABIN, Roman Viktorovich (a.k.a. LABIN, Romain), Moscow, Russia; Avenue Dolez 243, Uccle 1180, Belgium; DOB 17 Jul 1984; nationality Russia; Gender Male; Secondary sanctions risk: this person is designated for operating or having operated in a sector of the Russian Federation economy determined to support Russia's military-industrial base pursuant to section 11 of Executive Order 14024, as amended by Executive Order 14114. (individual) [RUSSIA-EO14024].

Designated pursuant to section 1(a)(i) of E.O. 14024 for operating or having operated in the manufacturing sector of the Russian Federation economy.

8. LABIN, Ruslan Viktorovich, Avenue Dolez 243, Uccle 1180, Belgium; Russia; DOB 28 Dec 1988; nationality Russia; Gender Male; Secondary sanctions risk: this person is designated for operating or having operated in a sector of the Russian Federation economy determined to support Russia's military-industrial base pursuant to section 11 of Executive Order 14024, as amended by Executive Order 14114.; Tax ID No. 773576249965 (Russia) (individual) [RUSSIA-EO14024].

Designated pursuant to section 1(a)(i) of E.O. 14024 for operating or having operated in the manufacturing sector of the Russian Federation economy.

9. ALIYEV, Jahangir Yevgenyevich (a.k.a. ALIYEV, Cahangir Yevqenyevic), Azerbaijan; DOB 22 May 1983; POB Ukraine; nationality Azerbaijan; Gender Male; Secondary sanctions risk: this person is designated for operating or having operated in a sector of the Russian Federation economy determined to support Russia's military-industrial base pursuant to section 11 of Executive Order 14024, as amended by Executive Order 14114.; Passport C01573439 (Azerbaijan) (individual) [RUSSIA-EO14024].

Designated pursuant to section 1(a)(i) of E.O. 14024 for operating or having operated in the technology sector of the Russian Federation economy.

10. ALIYEV, Yevgeni, Moscow, Russia; DOB 02 May 1959; nationality Russia; alt. nationality Azerbaijan; Gender Male; Secondary sanctions risk: this person is designated for operating or having operated in a sector of the Russian Federation economy determined to support Russia's military-industrial base pursuant to section 11 of Executive Order 14024, as amended by Executive Order 14114. (individual) [RUSSIA-EO14024].

Designated pursuant to section 1(a)(i) of E.O. 14024 for operating or having operated in the defense and related materiel sector of the Russian Federation economy.

11. PANKRASHKIN, Aleksei Vladimirovich, Russia; DOB 08 Aug 1974; POB Shkotovo-17, Russia; nationality Russia; Gender Male; Secondary sanctions risk: this person is designated for operating or having operated in a sector of the Russian Federation economy determined to support Russia's military-industrial base pursuant to section 11 of Executive Order 14024, as amended by Executive Order 14114.; Tax ID No. 780617129283 (Russia) (individual) [RUSSIA-EO14024].

Designated pursuant to section 1(a)(i) of E.O. 14024 for operating or having operated in the technology sector of the Russian Federation economy.

12. MAKAROV, Sergei Vyacheslavovich (a.k.a. MAKAROV, Sergei), Austria; DOB 05 Dec 1978; POB Vladivostok, Russia; nationality Russia; citizen Russia; Email Address makarov_away@mail.ru; Gender Male; Passport 750663876 (Russia); Tax ID No. 253804091667 (Russia) (individual) [RUSSIA-EO14024] (Linked To: IPM LIMITED).

Designated pursuant to section 1(a)(iii)(C): Leader, official, senior executive officer, or member of the board of directors of an SDN. IPM LIMITED.

13. MOZHAYEV, Yegor Igoryevich (a.k.a. “MOZHAEV, Egor Igorevich”; a.k.a. “MOZHAYEV, Yegor”), Moscow, Russia; DOB 31 May 1982; nationality Russia; Gender Male (individual) [RUSSIA-EO14024].

Designated pursuant to section 1(a)(vi)(B): Materially assisted an SDN. RADIOAVTOMATIKA LLC.

14. SELIVERSTOV, Ivan Vladimirovich, Moscow, Russia; DOB 10 Mar 1989; POB Magdeburg, Germany; nationality Russia; Gender Male (individual) [RUSSIA-EO14024].

Designated pursuant to section 1(a)(vi)(B): Materially assisted an SDN. RADIOAVTOMATIKA LLC.

Designated pursuant to section 1(a)(i) of E.O. 14024 for operating or having operated in the defense and related materiel sector of the Russian Federation economy.

Designated pursuant to section 1(a)(iv) of Executive Order 13382 of June 28, 2005, “Blocking Property of Weapons of Mass Destruction Proliferators and Their Supporters,” 70 FR 38567, 3 CFR, 2005 Comp., p. 170 (“E.O. 13382”), for having provided, or attempted to provide, financial, material, technological or other support for, or goods or services in support of, INTELLER LLC, a person whose property and interests in property are blocked pursuant to E.O. 13382.

Designated pursuant to section 1(a)(i) of E.O. 14024 for operating or having operated in the defense and related materiel sector of the Russian Federation economy.

Designated pursuant to section 1(a)(iii) of E.O. 13382 for having provided, or attempted to provide, financial, material, technological or other support for, or goods or services in support of AKTSIONERNOE OBSHCHESTVO RAU FARM, a person whose property and interests in property are blocked pursuant to E.O. 13382.

Entities

1. WUHAN TONGSHENG TECHNOLOGY CO., LTD., F038, Floor 5-8, 13, 15, Block B, No. 2 Factory Building, Guangyuan Science Park, No. 6 Huashiyuan North Road, Wuhan, Hubei 430000, China; Secondary sanctions risk: this person is designated for operating or having operated in a sector of the Russian Federation economy determined to support Russia's military-industrial base pursuant to section 11 of Executive Order 14024, as amended by Executive Order 14114.; Organization Established Date 29 Jun 2021; Unified Social Credit Code (USCC) 91420100MA4F0QE59C (China) [RUSSIA-EO14024].

Designated pursuant to section 1(a)(i) of E.O. 14024 for operating or having operated in the technology sector of the Russian Federation economy.

2. AKTSIONERNOE OBSHCHESTVO TSENTRALNOE KONSTRUKTORSKOE BYURO APPARATOSTROENIYA (a.k.a. CENTRAL DESIGN BUREAU OF APPARATUS ENGINEERING; a.k.a. “AO TSKBA”; a.k.a. “APPARATUS DEVELOPMENT JOINT STOCK COMPANY”; a.k.a. “JSC CDBAE”), 36, ul Demonstratsii, Tula 300034, Russia; Secondary sanctions risk: this person is designated for operating or having operated in a sector of the Russian Federation economy determined to support Russia's military-industrial base pursuant to section 11 of Executive Order 14024, as amended by Executive Order 14114.; Tax ID No. 7106002868 (Russia); Registration Number 1027100740941 (Russia) [RUSSIA-EO14024].

Designated pursuant to section 1(a)(i) of E.O. 14024 for operating or having operated in the defense and related materiel sector of the Russian Federation economy.

3. COMPLEX UNMANNED SOLUTIONS CENTER LTD (a.k.a. “U.S.C. LTD”), Spasateley St., 7, Zhukovsky 140184, Russia; Ul. Luch, D. 24/1a, floor 2, Pomeshch. 112, Zhukovsky 140184, Russia; Secondary sanctions risk: this person is designated for operating or having operated in a sector of the Russian Federation economy determined to support Russia's military-industrial base pursuant to section 11 of Executive Order 14024, as amended by Executive Order 14114.; Tax ID No. 5040176793 (Russia); Registration Number 1225000003458 (Russia) [RUSSIA-EO14024].

Designated pursuant to section 1(a)(i) of E.O. 14024 for operating or having operated in the defense and related materiel sector of the Russian Federation economy.

4. INFORMATION TELECOMMUNICATION TECHNOLOGIES JOINT STOCK COMPANY (a.k.a. “INTELTECH JSC”; a.k.a. “INTELTEKH”), Ul. Kantemirovskaya D. 8, Saint Petersburg 197342, Russia; Secondary sanctions risk: this person is designated for operating or having operated in a sector of the Russian Federation economy determined to support Russia's military-industrial base pursuant to section 11 of Executive Order 14024, as amended by Executive Order 14114.; Tax ID No. 7802030605 (Russia); Registration Number 1027801525608 (Russia) [RUSSIA-EO14024].

Designated pursuant to section 1(a)(i) of E.O. 14024 for operating or having operated in the defense and related materiel sector of the Russian Federation economy.

5. INSTITUTE OF APPLIED PHYSICS JSC (a.k.a. AO IPF; a.k.a. “INSTITUTE OF APPLIED PHYSICS IAP”), Ul. Arbuzova D. 1/1, Novosibirsk 630117, Russia; Secondary sanctions risk: this person is designated for operating or having operated in a sector of the Russian Federation economy determined to support Russia's military-industrial base pursuant to section 11 of Executive Order 14024, as amended by Executive Order 14114.; Tax ID No. 5408106299 (Russia); Registration Number 1025403638831 (Russia) [RUSSIA-EO14024].

Designated pursuant to section 1(a)(i) of E.O. 14024 for operating or having operated in the defense and related materiel sector of the Russian Federation economy.

6. JOINT STOCK COMPANY CLASS (a.k.a. “NPP KLASS”), Sh. Entuziastov, D 56, Str. 21, Moscow 111123, Russia; Ul. Sovetskaya D. 3, Floor 2, Kom. 2, Lukhovitsy 140501, Russia; Secondary sanctions risk: this person is designated for operating or having operated in a sector of the Russian Federation economy determined to support Russia's military-industrial base pursuant to section 11 of Executive Order 14024, as amended by Executive Order 14114.; Tax ID No. 7724032017 (Russia); Registration Number 1027700450975 (Russia) [RUSSIA-EO14024].

Designated pursuant to section 1(a)(i) of E.O. 14024 for operating or having operated in the defense and related materiel sector of the Russian Federation economy.

7. JOINT STOCK COMPANY DUKS (a.k.a. JOINT STOCK COMPANY DUX), 8 Pravdy Street, Moscow 125124, Russia; Secondary sanctions risk: this person is designated for operating or having operated in a sector of the Russian Federation economy determined to support Russia's military-industrial base pursuant to section 11 of Executive Order 14024, as amended by Executive Order 14114.; Tax ID No. 7714077682 (Russia); Registration Number 1027700010579 (Russia) [RUSSIA-EO14024].

Designated pursuant to section 1(a)(i) of E.O. 14024 for operating or having operated in the defense and related materiel sector of the Russian Federation economy.

8. JOINT STOCK COMPANY SCIENTIFIC-RESEARCH INSTITUTE OF MECHANIZATION OF KRASNOARMEYSK (a.k.a. “AO KNIIM”), Pr-Kt Ispytatelei D. 8, Krasnoarmeysk 141292, Russia; Secondary sanctions risk: this person is designated for operating or having operated in a sector of the Russian Federation economy determined to support Russia's military-industrial base pursuant to section 11 of Executive Order 14024, as amended by Executive Order 14114.; Tax ID No. 5038087144 (Russia); Registration Number 1115038007534 (Russia) [RUSSIA-EO14024].

Designated pursuant to section 1(a)(i) of E.O. 14024 for operating or having operated in the defense and related materiel sector of the Russian Federation economy.

9. JSC INNOVATION WEAPONS TECHNOLOGIES (a.k.a. AO INNOVATSIONNYE ORUZHEINYE TEKHNOLOGII), PR-D 2-I Yuzhnoportovyi D. 16, Str. 8, Kom. 108, 109, Moscow 115088, Russia; Secondary sanctions risk: this person is designated for operating or having operated in a sector of the Russian Federation economy determined to support Russia's military-industrial base pursuant to section 11 of Executive Order 14024, as amended by Executive Order 14114.; Tax ID No. 7723633336 (Russia); Registration Number 1077761841860 (Russia) [RUSSIA-EO14024].

Designated pursuant to section 1(a)(i) of E.O. 14024 for operating or having operated in the defense and related materiel sector of the Russian Federation economy.

10. LIMITED LIABILITY COMPANY POINTER, Ul. Kurlyandskaya D. 28, Lit. V, Pomeshch. 54-N, Kom. 106, Saint Petersburg 190020, Russia; Secondary sanctions risk: this person is designated for operating or having operated in a sector of the Russian Federation economy determined to support Russia's military-industrial base pursuant to section 11 of Executive Order 14024, as amended by Executive Order 14114.; Tax ID No. 7841082477 (Russia); Registration Number 1197847073115 (Russia) [RUSSIA-EO14024].

Designated pursuant to section 1(a)(i) of E.O. 14024 for operating or having operated in the defense and related materiel sector of the Russian Federation economy.

11. LIMITED LIABILITY COMPANY SCIENTIFIC AND PRODUCTION ASSOCIATION NAUKASOFT (a.k.a. NAUCHNO PROIZVODSTVENNOE OBYEDINENIE NAUKASOFT), Ul. Godovikova d. 9, Str. 4, Floor 1, Pomeshch./Kom 1.1/1.1.4, Moscow 129085, Russia; Secondary sanctions risk: this person is designated for operating or having operated in a sector of the Russian Federation economy determined to support Russia's military-industrial base pursuant to section 11 of Executive Order 14024, as amended by Executive Order 14114.; Registration Number 1127746234230 (Russia) [RUSSIA-EO14024].

Designated pursuant to section 1(a)(i) of E.O. 14024 for operating or having operated in the defense and related materiel sector of the Russian Federation economy.

12. LIMITED LIABILITY COMPANY UNITED LIFESAVING TECHNOLOGIES (a.k.a. UNITED RESCUE TECHNOLOGIES), Per Poryadkovyi D. 21, Moscow 127055, Russia; Ul. Eniseiskaya D. 7, K. 3, Floor 2, Komnata 4, Moscow 129344, Russia; Secondary sanctions risk: this person is designated for operating or having operated in a sector of the Russian Federation economy determined to support Russia's military-industrial base pursuant to section 11 of Executive Order 14024, as amended by Executive Order 14114.; Tax ID No. 7707768262 (Russia); Registration Number 1127746038584 (Russia) [RUSSIA-EO14024].

Designated pursuant to section 1(a)(i) of E.O. 14024 for operating or having operated in the defense and related materiel sector of the Russian Federation economy.

13. LIPETSKII MEKHANICHESKII ZAVOD (a.k.a. “OOO LMZ”), ul. Krasnozavodskaya, d. 1, office 201, Lipetsk 398006, Russia; Secondary sanctions risk: this person is designated for operating or having operated in a sector of the Russian Federation economy determined to support Russia's military-industrial base pursuant to section 11 of Executive Order 14024, as amended by Executive Order 14114.; Tax ID No. 4824096058 (Russia); Registration Number 1184827011302 (Russia) [RUSSIA-EO14024].

Designated pursuant to section 1(a)(i) of E.O. 14024 for operating or having operated in the defense and related materiel sector of the Russian Federation economy.

Designated pursuant to section 1(a)(i) of E.O. 14024 for operating or having operated in the defense and related materiel sector of the Russian Federation economy.

15. OPEN JOINT STOCK COMPANY KAZAN PLANT ELECTROPRIBOR (a.k.a. KAZAN PLANT ELECTRIC DEVICE OPEN JOINT STOCK COMPANY; a.k.a. OTKRYTOE AKTSIONERNOE OBSHCHESTVO KAZANSKII ZAVOD ELEKTROPRIBOR), Ul. Nikolaya Ershova D. 20, Kazan 420061, Russia; Secondary sanctions risk: this person is designated for operating or having operated in a sector of the Russian Federation economy determined to support Russia's military-industrial base pursuant to section 11 of Executive Order 14024, as amended by Executive Order 14114.; Tax ID No. 1655064494 (Russia); Registration Number 1041621021749 (Russia) [RUSSIA-EO14024].

Designated pursuant to section 1(a)(i) of E.O. 14024 for operating or having operated in the defense and related materiel sector of the Russian Federation economy.

Designated pursuant to section 1(a)(i) of E.O. 14024 for operating or having operated in the technology sector of the Russian Federation economy.

17. A Y A UNIVERSAL DENIZCILIK KUMANYACILIK LIMAN HIZMETLERI ITHALAT IHRACAT LIMITED SIRKETI (a.k.a. AYA UNIVERSAL TRADING DENIZCILIK KUMANYACILIK LIMAN HIZMETLERI ITHALAT IHRACAT LTD STI), G.M.K. Bulvari Capital Ticaret Merkezi B Blok Kat, Mersin 42250, Turkey; Organization Established Date 16 May 2022; Organization Type: Other transportation support activities [RUSSIA-EO14024].

Designated pursuant to section 1(a)(i) of E.O. 14024 for operating or having operated in the transportation sector of the Russian Federation economy.

18. ARTMARINE LLC, ul. Novgorodskaya d. 23, pomeshch. 146-n, office 248, Saint Petersburg 191124, Russia; ul. Ramenki, d. 5, korp. 1, et. 3, pom. V, of. 2, Moscow 119607, Russia; 1st floor of Building Dockworks 4, Waalhaven O.Z. 77, Rotterdam 3087 BM, Netherlands; Tax ID No. 7805634884 (Russia); Registration Number 1137847421689 (Russia) [RUSSIA-EO14024].

Designated pursuant to section 1(a)(i) of E.O. 14024 for operating or having operated in the transportation sector of the Russian Federation economy.

19. FPK TRANSAGENCY JSC (a.k.a. AKTSIONERNOE OBSHCHESTVO FPK TRANSAGENTSTVO), Ul. Fridrikha Engelsa D. 75 Str. 21, Moscow 105082, Russia; Ul. Nizhyaya Krasnoselskaya D. 5, Str. 6, Kom. 14-15, Moscow 107140, Russia; Tax ID No. 7708168606 (Russia); Registration Number 1027700024494 (Russia) [RUSSIA-EO14024].

Designated pursuant to section 1(a)(i) of E.O. 14024 for operating or having operated in the transportation sector of the Russian Federation economy.

20. IMPORTEKS, ul. Svetlanskaya d.133, kvartira 16, Vladivostok 690001, Russia; 1st floor, 53b, Nekrasovskaya St., Vladivostok, Russia; Office 31, 7th floor, 16, Raketny Boulevard St., Moscow, Russia; Tax ID No. 2543036719 (Russia); Registration Number 1132543023612 (Russia) [RUSSIA-EO14024].

Designated pursuant to section 1(a)(i) of E.O. 14024 for operating or having operated in the transportation sector of the Russian Federation economy.

21. LIMITED LIABILITY COMPANY EASTERN TRADING TRANSPORT COMPANY (a.k.a. VOSTOCHNAYA TORGOVO TRANSPORTNAYA KOMPANIYA; a.k.a. “TRANSPORT COMPANY LLC VTTK”), Ul. Lva Tolstogo D. 12, Pomeshch.VII 9, Khabarovsk 680000, Russia; Tax ID No. 2722046689 (Russia); Registration Number 1152722003037 (Russia) [RUSSIA-EO14024].

Designated pursuant to section 1(a)(i) of E.O. 14024 for operating or having operated in the transportation sector of the Russian Federation economy.

22. LIMITED LIABILITY COMPANY EUROTRANSEXPEDITION (a.k.a. OOO EVROTRANSEKSPEDITSIYA), naberezhnaya Novodanilovskaya, d. 4A, pom. II, kom. 22I-22S, 18, 19, Moscow 117105, Russia; Tax ID No. 7726756897 (Russia); Registration Number 5147746148853 (Russia) [RUSSIA-EO14024].

Designated pursuant to section 1(a)(i) of E.O. 14024 for operating or having operated in the transportation sector of the Russian Federation economy.

23. LIMITED LIABILITY COMPANY REIL TREIN SERVICE (a.k.a. “RAIL TRAIN SERVICE”; a.k.a. “RAILTRAINSERVICE”), Ul. Kakhovka D. 10, K. 3, Moscow 117461, Russia; Tax ID No. 7727769031 (Russia); Registration Number 5117746041100 (Russia) [RUSSIA-EO14024].

Designated pursuant to section 1(a)(i) of E.O. 14024 for operating or having operated in the transportation sector of the Russian Federation economy.

24. LLC TURBO KING, Proezd Avtosborochnyi D. 10, Naberezhnyye Chelny 423800, Russia; Tax ID No. 1650384878 (Russia); Registration Number 1191690088853 (Russia) [RUSSIA-EO14024].

Designated pursuant to section 1(a)(i) of E.O. 14024 for operating or having operated in the transportation sector of the Russian Federation economy.

25. OOO ORLAN, ul. Bolshaya Tatarskaya, 35c3, et. 11, Moscow, Russia; Kapi No: 5 Bakirkoy, Zeytinlik mah. Sporcu sk. Zeynep Apt. No: 7 IC, Istanbul, Turkey; Tax ID No. 7701096293 (Russia); Registration Number 1157746275488 (Russia) [RUSSIA-EO14024].

Designated pursuant to section 1(a)(i) of E.O. 14024 for operating or having operated in the transportation sector of the Russian Federation economy.

26. OOO PV BRIDZH, Rubtsovskaya naberezhnaya, d. 3, str. 1, et. 8, kom. 14, Moscow 105082, Russia; Tax ID No. 7733766494 (Russia); Registration Number 1117746345166 (Russia) [RUSSIA-EO14024].

Designated pursuant to section 1(a)(i) of E.O. 14024 for operating or having operated in the transportation sector of the Russian Federation economy.

27. OOO STANDARD LINE (a.k.a. OOO STANDART LAIN), ul. Ilyushina (Aviatsionny Mkr.), str. 2A, pom. 64, Domodedovo, Moscow 142007, Russia; sh. Kashirskoe d.7, Domodedovo 142000, Russia; Tax ID No. 5009082825 (Russia); Registration Number 1125009001655 (Russia) [RUSSIA-EO14024].

Designated pursuant to section 1(a)(i) of E.O. 14024 for operating or having operated in the transportation sector of the Russian Federation economy.

28. ROSTAR RESEARCH AND PRODUCTION ASSOCIATION LIMITED LIABILITY COMPANY (a.k.a. SCIENTIFIC AND PRODUCTION ASSOCIATION ROSTAR LLC), BSI, Ul. Dorozhnaya D. 39, Naberezhnyye Chelny 423800, Russia; Sh. Okruzhnoe D. 11B, Office 2, Yelabuga 423606, Russia; Tax ID No. 7720361170 (Russia); Registration Number 5167746369060 (Russia) [RUSSIA-EO14024].

Designated pursuant to section 1(a)(i) of E.O. 14024 for operating or having operated in the transportation sector of the Russian Federation economy.

29. CSOFT DEVELOPMENT, Ul. Boitsovaya D. 17, K. 3, Pomeshch. 12 Komnatad 3B, Moscow 107150, Russia; Secondary sanctions risk: this person is designated for operating or having operated in a sector of the Russian Federation economy determined to support Russia's military-industrial base pursuant to section 11 of Executive Order 14024, as amended by Executive Order 14114.; Tax ID No. 7722570620 (Russia); Registration Number 1067746335711 (Russia) [RUSSIA-EO14024].

Designated pursuant to section 1(a)(i) of E.O. 14024 for operating or having operated in the technology sector of the Russian Federation economy.

30. IBS EXPERTISE (a.k.a. OOO IBS EKSPERTIZA), ul. Skladochnaya d. 3, str. 1, Moscow 127018, Russia; sh. Dmitrovskoe, d. 9B, et. 5, pom. XIII, kom. 6, Moscow 127434, Russia; Secondary sanctions risk: this person is designated for operating or having operated in a sector of the Russian Federation economy determined to support Russia's military-industrial base pursuant to section 11 of Executive Order 14024, as amended by Executive Order 14114.; Tax ID No. 7713606622 (Russia); Registration Number 1067761849704 (Russia) [RUSSIA-EO14024].

Designated pursuant to section 1(a)(i) of E.O. 14024 for operating or having operated in the technology sector of the Russian Federation economy.

31. IBS SOFT LTD (a.k.a. OOO IBS SOFT), ul. Skladochnaya d. 3, str. 1, Moscow, 127434, Russia; sh. Dmitrovskoe, d. 9B, et. 5, pom. XIII, kom. 14, Moscow 127434, Russia; Secondary sanctions risk: this person is designated for operating or having operated in a sector of the Russian Federation economy determined to support Russia's military-industrial base pursuant to section 11 of Executive Order 14024, as amended by Executive Order 14114.; Tax ID No. 7713721689 (Russia); Registration Number 1117746016013 (Russia) [RUSSIA-EO14024].

Designated pursuant to section 1(a)(i) of E.O. 14024 for operating or having operated in the technology sector of the Russian Federation economy.

32. JOINT STOCK COMPANY IBS IT SERVICES (a.k.a. AO IBS IT USLUGI), ul. Skladochnaya d. 3, str. 1, Moscow 127018, Russia; sh. Dmitrovskoe, d. 9B, et. 5, pom. XIII, kom. 23, Moscow 127434, Russia; Secondary sanctions risk: this person is designated for operating or having operated in a sector of the Russian Federation economy determined to support Russia's military-industrial base pursuant to section 11 of Executive Order 14024, as amended by Executive Order 14114.; Tax ID No. 7713444361 (Russia); Registration Number 1177746672905 (Russia) [RUSSIA-EO14024].

Designated pursuant to section 1(a)(i) of E.O. 14024 for operating or having operated in the technology sector of the Russian Federation economy.

33. JSC CONSULTING GROUP POSTPROCESSOR, Ul. Presnenskii Val D. 17, Str. 1, Moscow 123557, Russia; Secondary sanctions risk: this person is designated for operating or having operated in a sector of the Russian Federation economy determined to support Russia's military-industrial base pursuant to section 11 of Executive Order 14024, as amended by Executive Order 14114.; Tax ID No. 7730617751 (Russia); Registration Number 1097746705759 (Russia) [RUSSIA-EO14024].

Designated pursuant to section 1(a)(i) of E.O. 14024 for operating or having operated in the technology sector of the Russian Federation economy.

34. LANIT INCORPORATED, Proezd Murmanskii, D 14, Korp. 1, Moscow 129075, Russia; Secondary sanctions risk: this person is designated for operating or having operated in a sector of the Russian Federation economy determined to support Russia's military-industrial base pursuant to section 11 of Executive Order 14024, as amended by Executive Order 14114.; Tax ID No. 7727004113 (Russia); Registration Number 1027739031572 (Russia) [RUSSIA-EO14024].

Designated pursuant to section 1(a)(i) of E.O. 14024 for operating or having operated in the technology sector of the Russian Federation economy.

35. LIMITED LIABILITY COMPANY IBS INFINISOFT, 1-I Volokolamskii proezd, d. 10, str. 1, et/pom. 1/I, kom. 58, Moscow 123060, Russia; sh. Dmitrovskoe, d. 9B, Moscow 127434, Russia; Secondary sanctions risk: this person is designated for operating or having operated in a sector of the Russian Federation economy determined to support Russia's military-industrial base pursuant to section 11 of Executive Order 14024, as amended by Executive Order 14114.; Tax ID No. 7713605227 (Russia); Registration Number 1067761258190 (Russia) [RUSSIA-EO14024].

Designated pursuant to section 1(a)(i) of E.O. 14024 for operating or having operated in the technology sector of the Russian Federation economy.

36. LIMITED LIABILITY COMPANY SKALA R, Ul. Godovikova D. 9, Str. 17, Floor 7, Pomeshch. 7, Moscow 129085, Russia; Secondary sanctions risk: this person is designated for operating or having operated in a sector of the Russian Federation economy determined to support Russia's military-industrial base pursuant to section 11 of Executive Order 14024, as amended by Executive Order 14114.; Tax ID No. 9717098243 (Russia); Registration Number 1217700023782 (Russia) [RUSSIA-EO14024].

Designated pursuant to section 1(a)(i) of E.O. 14024 for operating or having operated in the technology sector of the Russian Federation economy.

37. NAUCHNO INZHENERNOE PREDPRIYATIE INFORMATIKA (a.k.a. NIP INFORMATICA; a.k.a. NIP INFORMATIKA), Ul. Fuchika D. 4, Lit K, Saint Petersburg 192102, Russia; Secondary sanctions risk: this person is designated for operating or having operated in a sector of the Russian Federation economy determined to support Russia's military-industrial base pursuant to section 11 of Executive Order 14024, as amended by Executive Order 14114.; Tax ID No. 7810182337 (Russia); Registration Number 1027804862040 (Russia) [RUSSIA-EO14024].

Designated pursuant to section 1(a)(i) of E.O. 14024 for operating or having operated in the technology sector of the Russian Federation economy.

38. OBSHCHESTVO S OGRANICHENNOI OTVETSTVENNOSTYU FILAKSKOM (a.k.a. “PHILAX COMMUNICATIONS”; a.k.a. “PHILAXCOM”), Ul. Okskaya D. 8, K. 2, Et/P/K/Of 1/III/1/28, Moscow 109117, Russia; Secondary sanctions risk: this person is designated for operating or having operated in a sector of the Russian Federation economy determined to support Russia's military-industrial base pursuant to section 11 of Executive Order 14024, as amended by Executive Order 14114.; Tax ID No. 7724786430 (Russia); Registration Number 1117746288384 (Russia) [RUSSIA-EO14024].

Designated pursuant to section 1(a)(i) of E.O. 14024 for operating or having operated in the technology sector of the Russian Federation economy.

39. OBSHCHESTVO S OGRANICHENNOI OTVETSTVENNOSTYU SIGNUM, d. 42 str. 1 etazh 0 pom. 1485 R.M 1, bulvar Bolshoi (Innovatsionnogo Tsentra Skolkovo Ter), Moscow 121205, Russia; Secondary sanctions risk: this person is designated for operating or having operated in a sector of the Russian Federation economy determined to support Russia's military-industrial base pursuant to section 11 of Executive Order 14024, as amended by Executive Order 14114.; Tax ID No. 5050118416 (Russia); Registration Number 1155050003041 (Russia) [RUSSIA-EO14024].

Designated pursuant to section 1(a)(i) of E.O. 14024 for operating or having operated in the technology sector of the Russian Federation economy.

40. ORION LIMITED LIABILITY COMPANY, Ul. Dovatora D. 4/7, Pomeshch. 1/P, Kom. 3, Moscow 119048, Russia; Secondary sanctions risk: this person is designated for operating or having operated in a sector of the Russian Federation economy determined to support Russia's military-industrial base pursuant to section 11 of Executive Order 14024, as amended by Executive Order 14114.; Tax ID No. 9704113582 (Russia); Registration Number 1227700018996 (Russia) [RUSSIA-EO14024].

Designated pursuant to section 1(a)(i) of E.O. 14024 for operating or having operated in the technology sector of the Russian Federation economy.

41. PUBLIC JOINT STOCK COMPANY ASTRA GROUP, Sh. Varshavskoe D. 26, Floor/Office T/31, Moscow 117105, Russia; Secondary sanctions risk: this person is designated for operating or having operated in a sector of the Russian Federation economy determined to support Russia's military-industrial base pursuant to section 11 of Executive Order 14024, as amended by Executive Order 14114.; Tax ID No. 7726476459 (Russia); Registration Number 1217700192687 (Russia) [RUSSIA-EO14024].

Designated pursuant to section 1(a)(i) of E.O. 14024 for operating or having operated in the technology sector of the Russian Federation economy.

42. PURELOGIC (a.k.a. PURELOGIC R & D), PR-KT Leninskii D. 160, Office 134, Voronezh 394033, Russia; Secondary sanctions risk: this person is designated for operating or having operated in a sector of the Russian Federation economy determined to support Russia's military-industrial base pursuant to section 11 of Executive Order 14024, as amended by Executive Order 14114.; Tax ID No. 7726580330 (Russia); Registration Number 1077762066711 (Russia) [RUSSIA-EO14024].

Designated pursuant to section 1(a)(i) of E.O. 14024 for operating or having operated in the technology sector of the Russian Federation economy.

43. SECRET TECHNOLOGIES (a.k.a. SIKRET TEKHNOLODZHIS), Ul. Shcherbakovskaya D. 53, K. 3, Et 1 Kom 113, Moscow 105187, Russia; Secondary sanctions risk: this person is designated for operating or having operated in a sector of the Russian Federation economy determined to support Russia's military-industrial base pursuant to section 11 of Executive Order 14024, as amended by Executive Order 14114.; Tax ID No. 7719463723 (Russia); Registration Number 5167746470140 (Russia) [RUSSIA-EO14024].

Designated pursuant to section 1(a)(i) of E.O. 14024 for operating or having operated in the technology sector of the Russian Federation economy.

Designated pursuant to section 1(a)(vi)(B) of E.O. 14024 for having materially assisted, sponsored, or provided financial, material, or technological support for, or goods or services to or in support of, PRIVATE MILITARY COMPANY 'WAGNER', a person whose property and interests in property are blocked pursuant to E.O. 14024.

45. GONUL EXPORT LOJISTIK TICARET VE SANAYI LIMITED SIRKETI, Mahmutlar Mah. Mahmutlar Tepe Sok., No 8 Ic Kapi No: 66, Alanya, Antalya, Turkey; Secondary sanctions risk: this person is designated for operating or having operated in a sector of the Russian Federation economy determined to support Russia's military-industrial base pursuant to section 11 of Executive Order 14024, as amended by Executive Order 14114.; Organization Established Date 03 Aug 2022; Organization Type: Wholesale of other machinery and equipment [RUSSIA-EO14024].

Designated pursuant to section 1(a)(i) of E.O. 14024 for operating or having operated in the manufacturing sector of the Russian Federation economy.

46. MSO LOJISTIK TIC VE SANAYI LTD STI, Sekerhave Mah. Tevikiye Cad. 25 Ic Kapt 2, Alanya, Antalya, Turkey; Organization Established Date 22 Sep 2023; Registration Number 0623209473900001 (Turkey) [RUSSIA-EO14024] (Linked To: PETROV, Evgenii Stanislavich).

Designated pursuant to section 1(a)(vii) of E.O. 14024 for being owned or controlled by, or for having acted or purported to act for or on behalf of, directly or indirectly PETROV, Evgenii Stanislavich, a person whose property and interests in property are blocked pursuant to E.O. 14024.

47. AKTSIONERNOE OBSHCHESTVO BOLKHOVSKII ZAVOD POLUPROVODNIKOVYKH PRIBOROV (a.k.a. “AO BZPP”), Ul. Vasiliya Ermakova D. 17, Bolkhov 303140, Russia; Secondary sanctions risk: this person is designated for operating or having operated in a sector of the Russian Federation economy determined to support Russia's military-industrial base pursuant to section 11 of Executive Order 14024, as amended by Executive Order 14114.; Tax ID No. 5704003487 (Russia); Registration Number 1025702655890 (Russia) [RUSSIA-EO14024].

Designated pursuant to section 1(a)(i) of E.O. 14024 for operating or having operated in the manufacturing sector of the Russian Federation economy.

48. AKTSIONERNOE OBSHCHESTVO FRYAZINSKII ZAVOD MOSHCHNYKH TRANZISTOROV (a.k.a. “AO FZMT”), Pr-D Zavodskoi D. 3, Fryazino 141190, Russia; Secondary sanctions risk: this person is designated for operating or having operated in a sector of the Russian Federation economy determined to support Russia's military-industrial base pursuant to section 11 of Executive Order 14024, as amended by Executive Order 14114.; Tax ID No. 5050113873 (Russia); Registration Number 5147746235456 (Russia) [RUSSIA-EO14024].

Designated pursuant to section 1(a)(i) of E.O. 14024 for operating or having operated in the manufacturing sector of the Russian Federation economy.

49. AKTSIONERNOE OBSHCHESTVO PYEZO, Ul. Buzheninova D. 16, Moscow 105023, Russia; Secondary sanctions risk: this person is designated for operating or having operated in a sector of the Russian Federation economy determined to support Russia's military-industrial base pursuant to section 11 of Executive Order 14024, as amended by Executive Order 14114.; Tax ID No. 7718115603 (Russia); Registration Number 1027739447031 (Russia) [RUSSIA-EO14024].

Designated pursuant to section 1(a)(i) of E.O. 14024 for operating or having operated in the manufacturing sector of the Russian Federation economy.

50. ALEXANDER ELECTRIC DON (a.k.a. “AEDON”), Druzhinnikov, 5B,/Druzhinnikov 1, Voronezh 394026, Russia; Secondary sanctions risk: this person is designated for operating or having operated in a sector of the Russian Federation economy determined to support Russia's military-industrial base pursuant to section 11 of Executive Order 14024, as amended by Executive Order 14114.; Tax ID No. 3662055600 (Russia); Registration Number 1023601580045 (Russia) [RUSSIA-EO14024].

Designated pursuant to section 1(a)(i) of E.O. 14024 for operating or having operated in the manufacturing sector of the Russian Federation economy.

51. ALEXANDER ELECTRIC POWER SUPPLIES (a.k.a. “AEIEP”), Ul. Shchepkina D. 25/20, Kom. 14, Moscow 129090, Russia; Secondary sanctions risk: this person is designated for operating or having operated in a sector of the Russian Federation economy determined to support Russia's military-industrial base pursuant to section 11 of Executive Order 14024, as amended by Executive Order 14114.; Tax ID No. 7702231308 (Russia); Registration Number 1027700115574 (Russia) [RUSSIA-EO14024].

Designated pursuant to section 1(a)(i) of E.O. 14024 for operating or having operated in the manufacturing sector of the Russian Federation economy.

52. INTELLEKTUALNYE SISTEMY NN LIMITED LIABILITY COMPANY (a.k.a. INOPTICS), Ul. Libknekhta D. 41, K. 2, Dzerzhinsk 606020, Russia; Ul. Budennogo D. 5 V Of. 103, Dzerzhinsk 606026, Russia; Secondary sanctions risk: this person is designated for operating or having operated in a sector of the Russian Federation economy determined to support Russia's military-industrial base pursuant to section 11 of Executive Order 14024, as amended by Executive Order 14114.; Tax ID No. 5249106861 (Russia); Registration Number 1105249001593 (Russia) [RUSSIA-EO14024].

Designated pursuant to section 1(a)(i) of E.O. 14024 for operating or having operated in the manufacturing sector of the Russian Federation economy.

53. JOINT STOCK COMPANY ELECOND (a.k.a. AO ELEKOND), 3 Kalinin Street, Sarapul 427968, Russia; Secondary sanctions risk: this person is designated for operating or having operated in a sector of the Russian Federation economy determined to support Russia's military-industrial base pursuant to section 11 of Executive Order 14024, as amended by Executive Order 14114.; Tax ID No. 1827003592 (Russia); Registration Number 1021800993752 (Russia) [RUSSIA-EO14024].

Designated pursuant to section 1(a)(i) of E.O. 14024 for operating or having operated in the manufacturing sector of the Russian Federation economy.

54. JOINT STOCK COMPANY SPECIAL DESIGN BUREAU OF THE CABLE INDUSTRY (a.k.a. “AO OKB KP”), Ul. Yadreevskaya D. 4, Mytishchi 141002, Russia; Ul. Kolpakova D. 77, Mytishchi 141008, Russia; Secondary sanctions risk: this person is designated for operating or having operated in a sector of the Russian Federation economy determined to support Russia's military-industrial base pursuant to section 11 of Executive Order 14024, as amended by Executive Order 14114.; Tax ID No. 5029150262 (Russia); Registration Number 1115029003231 (Russia) [RUSSIA-EO14024].

Designated pursuant to section 1(a)(i) of E.O. 14024 for operating or having operated in the manufacturing sector of the Russian Federation economy.

55. LASERCUT LIMITED LIABILITY COMPANY, Pr-kt Obukhovskoi Oborony D. 70, K. 2 Lit. A, Pomeshch 1N, 2N, 3N, 4N, Kom. 105, 224, Saint Petersburg 192029, Russia; Secondary sanctions risk: this person is designated for operating or having operated in a sector of the Russian Federation economy determined to support Russia's military-industrial base pursuant to section 11 of Executive Order 14024, as amended by Executive Order 14114.; Tax ID No. 7839090657 (Russia); Registration Number 1177847291962 (Russia) [RUSSIA-EO14024].

Designated pursuant to section 1(a)(i) of E.O. 14024 for operating or having operated in the manufacturing sector of the Russian Federation economy.

56. LASSARD, Sh. Varshavskoe D. 26, Str. 11, Pomeshch. 1TS, Moscow 117105, Russia; Secondary sanctions risk: this person is designated for operating or having operated in a sector of the Russian Federation economy determined to support Russia's military-industrial base pursuant to section 11 of Executive Order 14024, as amended by Executive Order 14114.; Tax ID No. 4025442914 (Russia); Registration Number 1154025001030 (Russia) [RUSSIA-EO14024].

Designated pursuant to section 1(a)(i) of E.O. 14024 for operating or having operated in the manufacturing sector of the Russian Federation economy.

57. LATICOM LTD, 4806-I Proezd Zelenograd, 4 St. Moscow, Russia; Proezd 4922-I D. 4, Str. 3, Pomeshch. 3/1, Zelenograd 124498, Russia; Secondary sanctions risk: this person is designated for operating or having operated in a sector of the Russian Federation economy determined to support Russia's military-industrial base pursuant to section 11 of Executive Order 14024, as amended by Executive Order 14114.; Tax ID No. 7735528382 (Russia); Registration Number 5077746296800 (Russia) [RUSSIA-EO14024].

Designated pursuant to section 1(a)(i) of E.O. 14024 for operating or having operated in the manufacturing sector of the Russian Federation economy.

58. LAZERBI (a.k.a. LASERBEE), Pr-kt Kosygina D. 33, K. 1 Lit. A, Pomeshch. 1-N, Office 17, Saint Petersburg 195298, Russia; Secondary sanctions risk: this person is designated for operating or having operated in a sector of the Russian Federation economy determined to support Russia's military-industrial base pursuant to section 11 of Executive Order 14024, as amended by Executive Order 14114.; Registration ID 1197847249236 (Russia); Tax ID No. 7806568352 (Russia) [RUSSIA-EO14024].

Designated pursuant to section 1(a)(i) of E.O. 14024 for operating or having operated in the manufacturing sector of the Russian Federation economy.

59. LIMITED LIABILITY COMPANY LASERFORM (a.k.a. LAZERFORM), Ul. Avtomotornaya D. 1/3, Str. 2, Floor 6, Pomeshch. I Komnata 11, Moscow 125438, Russia; Secondary sanctions risk: this person is designated for operating or having operated in a sector of the Russian Federation economy determined to support Russia's military-industrial base pursuant to section 11 of Executive Order 14024, as amended by Executive Order 14114.; Tax ID No. 7722748800 (Russia); Registration Number 1117746445849 (Russia) [RUSSIA-EO14024].

Designated pursuant to section 1(a)(i) of E.O. 14024 for operating or having operated in the manufacturing sector of the Russian Federation economy.

60. LIMITED LIABILITY COMPANY SREDNEVOLZHSKY STANKOZAVOD (a.k.a. “SVSZ”), Ul. Naberezhnaya Reki Samary 1, Samara 443036, Russia; Secondary sanctions risk: this person is designated for operating or having operated in a sector of the Russian Federation economy determined to support Russia's military-industrial base pursuant to section 11 of Executive Order 14024, as amended by Executive Order 14114.; Tax ID No. 6311144662 (Russia); Registration Number 1136311005258 (Russia) [RUSSIA-EO14024].

Designated pursuant to section 1(a)(i) of E.O. 14024 for operating or having operated in the manufacturing sector of the Russian Federation economy.

61. MAGNETON JOINT STOCK COMPANY, Ul. Kurchatova D. 9, Saint Petersburg 194223, Russia; Secondary sanctions risk: this person is designated for operating or having operated in a sector of the Russian Federation economy determined to support Russia's military-industrial base pursuant to section 11 of Executive Order 14024, as amended by Executive Order 14114.; Tax ID No. 7802053803 (Russia); Registration Number 1027801538610 (Russia) [RUSSIA-EO14024].

Designated pursuant to section 1(a)(i) of E.O. 14024 for operating or having operated in the manufacturing sector of the Russian Federation economy.

62. MMP IRBIS, Ul. Zolotorozhskii Val D. 11, Str. 26, Floor 3, Pom. B14/1, Moscow 111033, Russia; Secondary sanctions risk: this person is designated for operating or having operated in a sector of the Russian Federation economy determined to support Russia's military-industrial base pursuant to section 11 of Executive Order 14024, as amended by Executive Order 14114.; Tax ID No. 7722469891 (Russia); Registration Number 1187746990474 (Russia) [RUSSIA-EO14024].

Designated pursuant to section 1(a)(i) of E.O. 14024 for operating or having operated in the manufacturing sector of the Russian Federation economy.

63. OTKRYTOE AKTSIONERNOE OBSHCHESTVO VSEROSSIISKII NAUCHNO ISSLEDOVATELSKII PROEKTNO KONSTRUKTORSKII I TEKHNOLOGICHESKII INSTITUT KABELNOI PROMYSHLENNOSTI (a.k.a. “OAO VNIIKP”), Sh. Entuziastov D. 5, Moscow 111024, Russia; Secondary sanctions risk: this person is designated for operating or having operated in a sector of the Russian Federation economy determined to support Russia's military-industrial base pursuant to section 11 of Executive Order 14024, as amended by Executive Order 14114.; Tax ID No. 7722002521 (Russia); Registration Number 1027700273985 (Russia) [RUSSIA-EO14024].

Designated pursuant to section 1(a)(i) of E.O. 14024 for operating or having operated in the manufacturing sector of the Russian Federation economy.

64. PUBLIC JOINT STOCK COMPANY AVTODIZEL YAROSLAVL MOTOR PLANT (a.k.a. “YAMZ”), Prospekt Oktyabrya ZD. 75, Yaroslavl 150040, Russia; Secondary sanctions risk: this person is designated for operating or having operated in a sector of the Russian Federation economy determined to support Russia's military-industrial base pursuant to section 11 of Executive Order 14024, as amended by Executive Order 14114.; Tax ID No. 7601000640 (Russia); Registration Number 1027600510761 (Russia) [RUSSIA-EO14024].

Designated pursuant to section 1(a)(i) of E.O. 14024 for operating or having operated in the manufacturing sector of the Russian Federation economy.

65. THE GROUP OF COMPANIES ELECTRONINVEST JOINT STOCK COMPANY (a.k.a. AO GK ELEKTRONINVEST), Ul. Nizhnaya D. 14, Str. 2, Moscow 125040, Russia; 19A, Ul. Alabushevskaya Zelenograd Moscow, Moscow 124460, Russia; Secondary sanctions risk: this person is designated for operating or having operated in a sector of the Russian Federation economy determined to support Russia's military-industrial base pursuant to section 11 of Executive Order 14024, as amended by Executive Order 14114.; Tax ID No. 7710346180 (Russia); Registration Number 1027739381812 (Russia) [RUSSIA-EO14024].

Designated pursuant to section 1(a)(i) of E.O. 14024 for operating or having operated in the manufacturing sector of the Russian Federation economy.

66. CARBONIM ENGINEERING LIMITED LIABILITY COMPANY, Ul. Barklaya D. 6, Str. 5, Pomeshch. 8/2, Moscow 121087, Russia; Ul. Silikatnaya 2s2, Lobnya 141730, Russia; Secondary sanctions risk: this person is designated for operating or having operated in a sector of the Russian Federation economy determined to support Russia's military-industrial base pursuant to section 11 of Executive Order 14024, as amended by Executive Order 14114.; Tax ID No. 9703136770 (Russia); Registration Number 1237700162842 (Russia) [RUSSIA-EO14024].

Designated pursuant to section 1(a)(i) of E.O. 14024 for operating or having operated in the manufacturing sector of the Russian Federation economy.

67. DIAGNOSTIKA M LLC (a.k.a. “TSNK”), Pr-kt Volgogradskii D. 42, Et. 13, Kom. 12, Moscow 109316, Russia; Secondary sanctions risk: this person is designated for operating or having operated in a sector of the Russian Federation economy determined to support Russia's military-industrial base pursuant to section 11 of Executive Order 14024, as amended by Executive Order 14114.; Tax ID No. 7720081285 (Russia); Registration Number 1037739045552 (Russia) [RUSSIA-EO14024].

Designated pursuant to section 1(a)(i) of E.O. 14024 for operating or having operated in the manufacturing sector of the Russian Federation economy.

68. FEDERAL RESEARCH AND PRODUCTION CENTER JOINT STOCK COMPANY RESEARCH AND PRODUCTION ASSOCIATION MARS (a.k.a. FNPTS AO NPO MARS), Ul. Solnechnaya D. 20, Ulyanovsk 432022, Russia; Secondary sanctions risk: this person is designated for operating or having operated in a sector of the Russian Federation economy determined to support Russia's military-industrial base pursuant to section 11 of Executive Order 14024, as amended by Executive Order 14114.; Tax ID No. 7303026811 (Russia); Registration Number 1067328003027 (Russia) [RUSSIA-EO14024].

Designated pursuant to section 1(a)(i) of E.O. 14024 for operating or having operated in the manufacturing sector of the Russian Federation economy.

69. JOINT STOCK COMPANY JUPITER PLANT (a.k.a. JSC ZAVOD YUPITER; a.k.a. ZAO ZAVOD YUPITER), Ul. Pobedy D. 107, Korp. 1, Valday 175400, Russia; Secondary sanctions risk: this person is designated for operating or having operated in a sector of the Russian Federation economy determined to support Russia's military-industrial base pursuant to section 11 of Executive Order 14024, as amended by Executive Order 14114.; Tax ID No. 7838027959 (Russia); Registration Number 1057806863883 (Russia) [RUSSIA-EO14024].

Designated pursuant to section 1(a)(i) of E.O. 14024 for operating or having operated in the manufacturing sector of the Russian Federation economy.

70. JOINT STOCK COMPANY MANEL (a.k.a. AO MANEL), Ul. Vladimira Vysotskogo D. 25, Str. 12, Tomsk 634040, Russia; Secondary sanctions risk: this person is designated for operating or having operated in a sector of the Russian Federation economy determined to support Russia's military-industrial base pursuant to section 11 of Executive Order 14024, as amended by Executive Order 14114.; Tax ID No. 7017259678 (Russia); Registration Number 1107017006854 (Russia) [RUSSIA-EO14024].

Designated pursuant to section 1(a)(i) of E.O. 14024 for operating or having operated in the manufacturing sector of the Russian Federation economy.

71. JOINT STOCK COMPANY VLADIMIR PLANT OF METAL HOSES (a.k.a. “AO VZM”), Kubysheva st., 26E, Vladimir 600035, Russia; Ul. Letnikovskaya D. 10, Str. 1, Pomeshch. IV, Kom. 11, Moscow 115114, Russia; Secondary sanctions risk: this person is designated for operating or having operated in a sector of the Russian Federation economy determined to support Russia's military-industrial base pursuant to section 11 of Executive Order 14024, as amended by Executive Order 14114.; Tax ID No. 3328441019 (Russia); Registration Number 1063328003584 (Russia) [RUSSIA-EO14024].

Designated pursuant to section 1(a)(i) of E.O. 14024 for operating or having operated in the manufacturing sector of the Russian Federation economy.

72. JSC BIOGRAD (a.k.a. BIOGRAD LLC; a.k.a. BIOGRADE LTD; a.k.a. ZAO BIOGRAD), Ul. Mira 14, Kv 630, Saint Petersburg 197101, Russia; Pr-kt Petrovskii D. 14, Lit. A, Pom. 19N, Saint Petersburg 197110, Russia; Torzhkovskaya st. 5, BC Optima, Saint Petersburg 197342, Russia; Secondary sanctions risk: this person is designated for operating or having operated in a sector of the Russian Federation economy determined to support Russia's military-industrial base pursuant to section 11 of Executive Order 14024, as amended by Executive Order 14114.; Tax ID No. 7813030678 (Russia); Registration Number 1027806867670 (Russia) [RUSSIA-EO14024].

Designated pursuant to section 1(a)(i) of E.O. 14024 for operating or having operated in the manufacturing sector of the Russian Federation economy.

73. JSC VLADIMIR PLANT OF PRECISION ALLOYS (a.k.a. AKTSIONERNOE OBSHCHESTVO VLADIMIRSKII ZAVOD PRETSIZIONNYKH SPLAVOV; a.k.a. AO VZPS), Ul Kuibysheva 26, Vladimir 600035, Russia; Per. Ozerkovskii D. 12, Pomeshch. I, Kom. 21, Moscow 115184, Russia; Secondary sanctions risk: this person is designated for operating or having operated in a sector of the Russian Federation economy determined to support Russia's military-industrial base pursuant to section 11 of Executive Order 14024, as amended by Executive Order 14114.; Tax ID No. 3328459312 (Russia); Registration Number 1083328004044 (Russia) [RUSSIA-EO14024].

Designated pursuant to section 1(a)(i) of E.O. 14024 for operating or having operated in the manufacturing sector of the Russian Federation economy.

74. LIMITED LIABILITY COMPANY CONFERUM (a.k.a. KONFERUM), Ul. Betonnaya D. 13A, Pomeshch. I/Floor 2, Staraya Kupavna 142450, Russia; Shchelkovskoe shosse, 54B, Balashikha, Moscow 143900, Russia; Secondary sanctions risk: this person is designated for operating or having operated in a sector of the Russian Federation economy determined to support Russia's military-industrial base pursuant to section 11 of Executive Order 14024, as amended by Executive Order 14114.; Tax ID No. 5001077887 (Russia); Registration Number 1105001002370 (Russia) [RUSSIA-EO14024].

Designated pursuant to section 1(a)(i) of E.O. 14024 for operating or having operated in the manufacturing sector of the Russian Federation economy.

75. LIMITED LIABILITY COMPANY K.ARMA (a.k.a. LIMITED LIABILITY COMPANY K ARMA), Ul. Mechnikova D. 40, Kv. 27, Kolomna 140412, Russia; Oktiabrskoy Revolutsii st., 354A, Kolomna 140408, Russia; Secondary sanctions risk: this person is designated for operating or having operated in a sector of the Russian Federation economy determined to support Russia's military-industrial base pursuant to section 11 of Executive Order 14024, as amended by Executive Order 14114.; Tax ID No. 5022071237 (Russia); Registration Number 1225000028879 (Russia) [RUSSIA-EO14024].

Designated pursuant to section 1(a)(i) of E.O. 14024 for operating or having operated in the manufacturing sector of the Russian Federation economy.

76. LIMITED LIABILITY COMPANY UNIQUE LAB (a.k.a. YUNIK LEB), Ul. Bumazhnaya D. 17, Lit. A, Pomeshch. 268B, Saint Petersburg 190020, Russia; Secondary sanctions risk: this person is designated for operating or having operated in a sector of the Russian Federation economy determined to support Russia's military-industrial base pursuant to section 11 of Executive Order 14024, as amended by Executive Order 14114.; Tax ID No. 7839071647 (Russia); Registration Number 1167847364233 (Russia) [RUSSIA-EO14024].

Designated pursuant to section 1(a)(i) of E.O. 14024 for operating or having operated in the manufacturing sector of the Russian Federation economy.

77. LIMITED LIABILITY COMPANY VIRSEMI, Ul. Lenina D. 328, K. 7, Kv. 14, Tolyatti 355003, Russia; Lenina st., 431, Stavropol 355029, Russia; Secondary sanctions risk: this person is designated for operating or having operated in a sector of the Russian Federation economy determined to support Russia's military-industrial base pursuant to section 11 of Executive Order 14024, as amended by Executive Order 14114.; Tax ID No. 2635240873 (Russia); Registration Number 1192651008648 (Russia) [RUSSIA-EO14024].

Designated pursuant to section 1(a)(i) of E.O. 14024 for operating or having operated in the manufacturing sector of the Russian Federation economy.

78. LIMITED LIABILITY COMPANY WORLD OF FASTENERS TD (a.k.a. MIR KREPEZHA TD), Sh. Golovinskoe D. 3, Pomeshch. 4N, Moscow 125212, Russia; Golovinskoe shosse, 5A, Moscow 125212, Russia; Secondary sanctions risk: this person is designated for operating or having operated in a sector of the Russian Federation economy determined to support Russia's military-industrial base pursuant to section 11 of Executive Order 14024, as amended by Executive Order 14114.; Tax ID No. 7743157075 (Russia); Registration Number 1167746505552 (Russia) [RUSSIA-EO14024].

Designated pursuant to section 1(a)(i) of E.O. 14024 for operating or having operated in the manufacturing sector of the Russian Federation economy.

79. LLC INNO BETON 21, Sh. Volokolamskoe ZD. 119, Pomeshch. 24, Rumyantsevo 143560, Russia; 26 km Novorizhskoe shosse, Business Center Riga Land, Building 6, Krasnogorsk 143421, Russia; Secondary sanctions risk: this person is designated for operating or having operated in a sector of the Russian Federation economy determined to support Russia's military-industrial base pursuant to section 11 of Executive Order 14024, as amended by Executive Order 14114.; Tax ID No. 5017124589 (Russia); Registration Number 1205000104297 (Russia) [RUSSIA-EO14024].

Designated pursuant to section 1(a)(i) of E.O. 14024 for operating or having operated in the manufacturing sector of the Russian Federation economy.

80. LLC MOSPRESS (a.k.a. MOSPRESS METAL SPINNING AND FLOW FORMING FACTORY), Ul. Akademika Koroleva D. 13, Str. 1, Et 4 Pom. III Kom 23, Moscow 129515, Russia; Akademika Koroleva st., 13, bldg. 1, office 455, Moscow 129515, Russia; 1-Y Verkhniy Pereulok, 12B, Saint Petersburg, Russia; Secondary sanctions risk: this person is designated for operating or having operated in a sector of the Russian Federation economy determined to support Russia's military-industrial base pursuant to section 11 of Executive Order 14024, as amended by Executive Order 14114.; Tax ID No. 5075029260 (Russia); Registration Number 1165075051404 (Russia) [RUSSIA-EO14024].

Designated pursuant to section 1(a)(i) of E.O. 14024 for operating or having operated in the manufacturing sector of the Russian Federation economy.

81. MERIDIAN RESEARCH AND PRODUCTION FIRM JSC (a.k.a. AO NPF MERIDIAN; a.k.a. RPF MERIDIAN JSC), Ul. Blokhina D. 19, Saint Petersburg 197198, Russia; Secondary sanctions risk: this person is designated for operating or having operated in a sector of the Russian Federation economy determined to support Russia's military-industrial base pursuant to section 11 of Executive Order 14024, as amended by Executive Order 14114.; Tax ID No. 7813113934 (Russia); Registration Number 1027806864535 (Russia) [RUSSIA-EO14024].

Designated pursuant to section 1(a)(i) of E.O. 14024 for operating or having operated in the manufacturing sector of the Russian Federation economy.

82. METMA METAL AND CERAMIC MATERIALS PLANT JSC (a.k.a. AKTSIONERNOE OBSHCHESTVO ZAVOD METALLOKERAMICHESKIKH MATERIALOV METMA; a.k.a. AO METMA), Ul. Krylova D. 53A, Yoshkar Ola 424007, Russia; Secondary sanctions risk: this person is designated for operating or having operated in a sector of the Russian Federation economy determined to support Russia's military-industrial base pursuant to section 11 of Executive Order 14024, as amended by Executive Order 14114.; Tax ID No. 1215055989 (Russia); Registration Number 1021200754266 (Russia) [RUSSIA-EO14024].

Designated pursuant to section 1(a)(i) of E.O. 14024 for operating or having operated in the manufacturing sector of the Russian Federation economy.

83. TREAL M LIMITED LIABILITY COMPANY, Proezd Boksitovyi Str. 1, Yekaterinburg 620030, Russia; Proletarskaya, 2A, office 26, Aramyl 624003, Russia; Secondary sanctions risk: this person is designated for operating or having operated in a sector of the Russian Federation economy determined to support Russia's military-industrial base pursuant to section 11 of Executive Order 14024, as amended by Executive Order 14114.; Tax ID No. 6685108807 (Russia); Registration Number 1169658023358 (Russia) [RUSSIA-EO14024].

Designated pursuant to section 1(a)(i) of E.O. 14024 for operating or having operated in the manufacturing sector of the Russian Federation economy.

84. ALGORITM TOCHNOSTI, Ul. Mayakovskogo D. 6A, Office 108, 109, 110, Elektrostal 144000, Russia; Secondary sanctions risk: this person is designated for operating or having operated in a sector of the Russian Federation economy determined to support Russia's military-industrial base pursuant to section 11 of Executive Order 14024, as amended by Executive Order 14114.; Tax ID No. 5053037814 (Russia); Registration Number 1145053002808 (Russia) [RUSSIA-EO14024].

Designated pursuant to section 1(a)(i) of E.O. 14024 for operating or having operated in the manufacturing sector of the Russian Federation economy.

85. ETASIS ELEKTRONIK TARTI ALETLERI VE SISTEMLERI SANAYI VE TICARET ANONIM SIRKETI (a.k.a. ETASIS A.S.), 2001 Cadde No 36, 75, Yil Mahallesi, Odunpazari 26250, Turkey; Secondary sanctions risk: this person is designated for operating or having operated in a sector of the Russian Federation economy determined to support Russia's military-industrial base pursuant to section 11 of Executive Order 14024, as amended by Executive Order 14114.; Tax ID No. 7838098822 (Turkey); Registration Number 26355 (Turkey) [RUSSIA-EO14024].

Designated pursuant to section 1(a)(i) of E.O. 14024 for operating or having operated in the manufacturing sector of the Russian Federation economy.

86. VEKTOR ETALON (a.k.a. LIMITED LIABILITY COMPANY VECTOR ETALON), Nab. Obvodnogo Kanala D. 138, K. 1, Lit. V, Pomeshch. 5 N 20, Kom. 401 Chast, Saint Petersburg 190020, Russia; Secondary sanctions risk: this person is designated for operating or having operated in a sector of the Russian Federation economy determined to support Russia's military-industrial base pursuant to section 11 of Executive Order 14024, as amended by Executive Order 14114.; Tax ID No. 7805764499 (Russia); Registration Number 1207800042009 (Russia) [RUSSIA-EO14024].

Designated pursuant to section 1(a)(i) of E.O. 14024 for operating or having operated in the manufacturing sector of the Russian Federation economy.

87. AKTSIONERNOE OBSHCHESTVO KONSTRUKTORSKOE BYURO FARVATER (a.k.a. AO KB FARVATER; a.k.a. CLOSED JOINT STOCK COMPANY DESIGN BUREAU FARVATER; a.k.a. DESIGN CENTER FARVATER JSC; a.k.a. JOINT STOCK COMPANY DESIGN CENTER FARVATER), Nansena St., 154B, Rostov-on-Don 344010, Russia; Secondary sanctions risk: this person is designated for operating or having operated in a sector of the Russian Federation economy determined to support Russia's military-industrial base pursuant to section 11 of Executive Order 14024, as amended by Executive Order 14114.; Tax ID No. 6163106808 (Russia); Registration Number 1116195002307 (Russia) [RUSSIA-EO14024].

Designated pursuant to section 1(a)(i) of E.O. 14024 for operating or having operated in the technology sector of the Russian Federation economy.

88. ALPHA M JOINT STOCK COMPANY RESEARCH AND PRODUCTION COMPLEX (a.k.a. AKTSIONERNOE OBSHCHESTVO NAUCHNO PROIZODSTVENNYI KOMPLEKS ALFA M; a.k.a. AO NPK ALFA M), Ul. Chkalova D. 36A, Office 31, Zhukovskiy 140180, Russia; Svyazi st., 25, Ryazan 390047, Russia; Secondary sanctions risk: this person is designated for operating or having operated in a sector of the Russian Federation economy determined to support Russia's military-industrial base pursuant to section 11 of Executive Order 14024, as amended by Executive Order 14114.; Tax ID No. 5040125679 (Russia); Registration Number 1135040005594 (Russia) [RUSSIA-EO14024].

Designated pursuant to section 1(a)(i) of E.O. 14024 for operating or having operated in the technology sector of the Russian Federation economy.

89. ARTA SYSTEM LIMITED, Ul. Komsomolskaya Str., 17B, Pomeshch 3, Fryazino 141195, Russia; Secondary sanctions risk: this person is designated for operating or having operated in a sector of the Russian Federation economy determined to support Russia's military-industrial base pursuant to section 11 of Executive Order 14024, as amended by Executive Order 14114.; Tax ID No. 5050155030 (Russia); Registration Number 1225000045951 (Russia) [RUSSIA-EO14024].

Designated pursuant to section 1(a)(i) of E.O. 14024 for operating or having operated in the technology sector of the Russian Federation economy.

90. INKOTEKH (a.k.a. INKOTECH LTD.), Nab. Vyborgskaya D. 55, K. 3, Lit. A, Pomeshch. 5-N, Saint Petersburg 194100, Russia; Secondary sanctions risk: this person is designated for operating or having operated in a sector of the Russian Federation economy determined to support Russia's military-industrial base pursuant to section 11 of Executive Order 14024, as amended by Executive Order 14114.; Tax ID No. 7811285656 (Russia); Registration Number 1167847076825 (Russia) [RUSSIA-EO14024].

Designated pursuant to section 1(a)(i) of E.O. 14024 for operating or having operated in the technology sector of the Russian Federation economy.

91. IVK JOINT STOCK COMPANY (a.k.a. AO IVK; a.k.a. IVK JSC), Ul. Butyrskaya D. 75, Moscow 127015, Russia; Secondary sanctions risk: this person is designated for operating or having operated in a sector of the Russian Federation economy determined to support Russia's military-industrial base pursuant to section 11 of Executive Order 14024, as amended by Executive Order 14114.; Tax ID No. 7702157005 (Russia); Registration Number 1027700115453 (Russia) [RUSSIA-EO14024].

Designated pursuant to section 1(a)(i) of E.O. 14024 for operating or having operated in the technology sector of the Russian Federation economy.

92. JOINT STOCK COMPANY RM TECHNOLOGIES (a.k.a. JOINT STOCK COMPANY RADIO CONTROL TECHNOLOGIES), Ul. Sofyi Kovalevskoi D. 20, Korp. 1, Lit. A, Pom. 22N, Saint Petersburg 195256, Russia; Secondary sanctions risk: this person is designated for operating or having operated in a sector of the Russian Federation economy determined to support Russia's military-industrial base pursuant to section 11 of Executive Order 14024, as amended by Executive Order 14114.; Tax ID No. 7804436569 (Russia); Registration Number 1107847128729 (Russia) [RUSSIA-EO14024].

Designated pursuant to section 1(a)(i) of E.O. 14024 for operating or having operated in the technology sector of the Russian Federation economy.

93. K TECHNOLOGIES JOINT STOCK COMPANY (a.k.a. K TECHNOLOGY JOINT STOCK COMPANY; a.k.a. “RTI, PAO”), Elektrozavodskaya St., 27, Bldg. 9, Moscow 107023, Russia; Secondary sanctions risk: this person is designated for operating or having operated in a sector of the Russian Federation economy determined to support Russia's military-industrial base pursuant to section 11 of Executive Order 14024, as amended by Executive Order 14114.; Tax ID No. 7713723559 (Russia); Registration Number 1117746115233 (Russia) [RUSSIA-EO14024].

Designated pursuant to section 1(a)(i) of E.O. 14024 for operating or having operated in the technology sector of the Russian Federation economy.

94. LIMITED LIABILITY COMPANY PROTEY SPETSTEKHNIKA (a.k.a. PROTEI ST LTD), Pr-kt Bolshoi Sampsonievskii D. 60, BTS Telekom, Saint Petersburg 194044, Russia; Secondary sanctions risk: this person is designated for operating or having operated in a sector of the Russian Federation economy determined to support Russia's military-industrial base pursuant to section 11 of Executive Order 14024, as amended by Executive Order 14114.; Tax ID No. 7802471913 (Russia); Registration Number 1097847159321 (Russia) [RUSSIA-EO14024].

Designated pursuant to section 1(a)(i) of E.O. 14024 for operating or having operated in the technology sector of the Russian Federation economy.

95. LIMITED LIABILITY COMPANY VIPAKS+, Presnenskaya nab., 12, Floor 41,, Office 5, Moscow 115162, Russia; Ul. Krasnova D. 24, Perm 614000, Russia; Secondary sanctions risk: this person is designated for operating or having operated in a sector of the Russian Federation economy determined to support Russia's military-industrial base pursuant to section 11 of Executive Order 14024, as amended by Executive Order 14114.; Tax ID No. 5902140005 (Russia); Registration Number 1025900518181 (Russia) [RUSSIA-EO14024].

Designated pursuant to section 1(a)(i) of E.O. 14024 for operating or having operated in the technology sector of the Russian Federation economy.

96. MEZHDUNARODNYI KLUB OPTICHESKIKH INNOVATSII (a.k.a. “MKOI”), Ul. Novodmitrovskaya D. 2, K. 2, Et/Pom.4/XXIIIB, Moscow 127015, Russia; Ul. Nizhnyaya D. 14., Str. 5, Moscow, 125040, Russia; Secondary sanctions risk: this person is designated for operating or having operated in a sector of the Russian Federation economy determined to support Russia's military-industrial base pursuant to section 11 of Executive Order 14024, as amended by Executive Order 14114.; Tax ID No. 7715778105 (Russia); Registration Number 1097746622775 (Russia) [RUSSIA-EO14024].

Designated pursuant to section 1(a)(i) of E.O. 14024 for operating or having operated in the technology sector of the Russian Federation economy.

97. NAUCHNO PROIZVODSTVENNAYA FIRMA DOLOMANT (a.k.a. SCIENTIFIC PRODUCTION COMPANY DOLOMANT; a.k.a. ZAO NPF DOLOMANT), Ul. Vvedenskogo D. 3, Moscow 117342, Russia; Secondary sanctions risk: this person is designated for operating or having operated in a sector of the Russian Federation economy determined to support Russia's military-industrial base pursuant to section 11 of Executive Order 14024, as amended by Executive Order 14114.; Tax ID No. 7728512529 (Russia); Registration Number 1047796326137 (Russia) [RUSSIA-EO14024].

Designated pursuant to section 1(a)(i) of E.O. 14024 for operating or having operated in the technology sector of the Russian Federation economy.

98. SCIENTIFIC EQUIPMENT GROUP OF COMPANIES (a.k.a. NAUCHNYE PRIBORY I SISTEMY; a.k.a. SCIENTIFIC EQUIPMENT GROUP), Ul. Inzhenernaya D. 4a, Of. 212, Novosibirsk 630128, Russia; Pr-kt Krasnyi D. 1, Office 214, Novosibirsk 630007, Russia; Secondary sanctions risk: this person is designated for operating or having operated in a sector of the Russian Federation economy determined to support Russia's military-industrial base pursuant to section 11 of Executive Order 14024, as amended by Executive Order 14114.; Tax ID No. 5408308016 (Russia); Registration Number 1145476045241 (Russia) [RUSSIA-EO14024].

Designated pursuant to section 1(a)(i) of E.O. 14024 for operating or having operated in the technology sector of the Russian Federation economy.

99. AMS GROUP LLC (a.k.a. AMS GRUPP; a.k.a. ANALYTICAL MARKETING CHEMICAL GROUP), Pl. Konstitutsii D. 3, K. 2 Lit. A, Pom. 101N, Saint Petersburg 196247, Russia; Secondary sanctions risk: this person is designated for operating or having operated in a sector of the Russian Federation economy determined to support Russia's military-industrial base pursuant to section 11 of Executive Order 14024, as amended by Executive Order 14114.; Tax ID No. 7810819993 (Russia); Registration Number 1117847091856 (Russia) [RUSSIA-EO14024].

Designated pursuant to section 1(a)(i) of E.O. 14024 for operating or having operated in the defense and related materiel sector of the Russian Federation economy.

100. LIMITED LIABILITY COMPANY STROYTEKHNOLOGIYA (a.k.a. STROITEKHNOLOGIYA), Ul. Industrialnaya (Klimovsk Mkr.) D. 13, Pomeshch 15/6, Podolsk 142180, Russia; Secondary sanctions risk: this person is designated for operating or having operated in a sector of the Russian Federation economy determined to support Russia's military-industrial base pursuant to section 11 of Executive Order 14024, as amended by Executive Order 14114.; Tax ID No. 5036121865 (Russia); Registration Number 1125074009840 (Russia) [RUSSIA-EO14024].

Designated pursuant to section 1(a)(i) of E.O. 14024 for operating or having operated in the manufacturing sector of the Russian Federation economy.

101. PRINT KOLOR (a.k.a. “PRINT COLOR”), Ul. Zheleznodorozhnaya D. 24, Shcherbinka 142171, Russia; Ul. Krasnodarskaya (Severnyi Mkr.) Str. 4, Domodedovo 142000, Russia; Secondary sanctions risk: this person is designated for operating or having operated in a sector of the Russian Federation economy determined to support Russia's military-industrial base pursuant to section 11 of Executive Order 14024, as amended by Executive Order 14114.; Tax ID No. 5074112170 (Russia); Registration Number 1095074005234 (Russia) [RUSSIA-EO14024].

Designated pursuant to section 1(a)(i) of E.O. 14024 for operating or having operated in the manufacturing sector of the Russian Federation economy.

102. GIF GROUPE DINVESTISSEMENT FINANCI OSBORNE DIS TIC LTD STI (a.k.a. OSBORNE DIS TICARET LIMITED SIRKETI), Yakuplu Mah. Hurriyet Bul. Skyport Sitesi, Skyport Residence Blok No. 1 ic, Kap 1 No. 64 Beylikduzu, Istanbul, Turkey; Organization Established Date 27 Jun 2022; Tax ID No. 6481617870 (Turkey) [RUSSIA-EO14024].

Designated pursuant to section 1 (a)(vi)(B) of E.O. 14024 for having materially assisted, sponsored, or provided financial, material, or technological support for, or goods or services to or in support of, SONATEC LIMITED LIABILITY COMPANY, a person whose property and interests in property are blocked pursuant to E.O. 14024.

103. GROUPE D'INVESTISSEMENT FINANCIER SA (a.k.a. “GIF SA”), Avenue De La Ferme Rose 7 B. 15, Brussels 1180, Belgium; Roze Hoevelaan 7 B. 15, Brussels 1180, Belgium; 243 Avenue Dolez, Uccle 1180, Belgium; Secondary sanctions risk: this person is designated for operating or having operated in a sector of the Russian Federation economy determined to support Russia's military-industrial base pursuant to section 11 of Executive Order 14024, as amended by Executive Order 14114.; Organization Established Date 20 Oct 2000; Identification Number 1298404-16 (Belgium); Registration Number 0473.155.607 (Belgium) [RUSSIA-EO14024].

Designated pursuant to section 1(a)(i) of E.O. 14024 for operating or having operated in the manufacturing sector of the Russian Federation economy.

104. SONATEC LIMITED LIABILITY COMPANY (a.k.a. SONATEK LLC), Ul. Usievicha D. 20, K. 3, Moscow 125315, Russia; Secondary sanctions risk: this person is designated for operating or having operated in a sector of the Russian Federation economy determined to support Russia's military-industrial base pursuant to section 11 of Executive Order 14024, as amended by Executive Order 14114.; Tax ID No. 5027153451 (Russia); Registration Number 1095027010242 (Russia) [RUSSIA-EO14024].

Designated pursuant to section 1(a)(i) of E.O. 14024 for operating or having operated in the manufacturing sector of the Russian Federation economy.

105. FENIKS (a.k.a. LIMITED LIABILITY COMPANY PHOENIX), Ul. Nizhegorodskaya D. 86, K. B, Pomeshch. 5/1, Moscow 109052, Russia; Secondary sanctions risk: this person is designated for operating or having operated in a sector of the Russian Federation economy determined to support Russia's military-industrial base pursuant to section 11 of Executive Order 14024, as amended by Executive Order 14114.; Tax ID No. 6829115653 (Russia); Registration Number 1156829008489 (Russia) [RUSSIA-EO14024].

Designated pursuant to section 1(a)(i) of E.O. 14024 for operating or having operated in the construction sector of the Russian Federation economy.

106. KHIMTREID (a.k.a. LIMITED LIABILITY COMPANY HIMTREYD), Ul. Dekabristov D. 115, Pomeshch. 39, Kazan 420034, Russia; Tax ID No. 1661034040 (Russia); Registration Number 31121690069082 (Russia) [RUSSIA-EO14024].

Designated pursuant to section 1(a)(i) of E.O. 14024 for operating or having operated in the transportation sector of the Russian Federation economy.

107. LIMITED LIABILITY COMPANY BIYA KHIM, Ul. Eduarda Geideka D. 1, Biysk 659300, Russia; Secondary sanctions risk: this person is designated for operating or having operated in a sector of the Russian Federation economy determined to support Russia's military-industrial base pursuant to section 11 of Executive Order 14024, as amended by Executive Order 14114.; Tax ID No. 2204011974 (Russia); Registration Number 1022200567949 (Russia) [RUSSIA-EO14024].

Designated pursuant to section 1(a)(i) of E.O. 14024 for operating or having operated in the manufacturing sector of the Russian Federation economy.

108. LIMITED LIABILITY COMPANY LENAKHIM (a.k.a. LENACHIM COMPANY LIMITED), Ul Marshala Govorova D. 29, Saint Petersburg 198095, Russia; Khimichesky Per., D. 1, Litera AN, Pomesh 10-N, Chast Pom 3, Saint Petersburg 198095, Russia; Secondary sanctions risk: this person is designated for operating or having operated in a sector of the Russian Federation economy determined to support Russia's military-industrial base pursuant to section 11 of Executive Order 14024, as amended by Executive Order 14114.; Tax ID No. 7805182187 (Russia); Registration Number 1027802746179 (Russia) [RUSSIA-EO14024].

Designated pursuant to section 1(a)(i) of E.O. 14024 for operating or having operated in the manufacturing sector of the Russian Federation economy.

109. LIMITED LIABILITY COMPANY NAVIMAKS GROUP (a.k.a. NAVIMAKS GRUPP), Sh. Korovinskoe D. 10, Str. 2, Office 3, Moscow 127486, Russia; Secondary sanctions risk: this person is designated for operating or having operated in a sector of the Russian Federation economy determined to support Russia's military-industrial base pursuant to section 11 of Executive Order 14024, as amended by Executive Order 14114.; Tax ID No. 7715851725 (Russia); Registration Number 1117746101770 (Russia) [RUSSIA-EO14024].

Designated pursuant to section 1(a)(i) of E.O. 14024 for operating or having operated in the manufacturing sector of the Russian Federation economy.

110. LIMITED LIABILITY COMPANY YARSPETSPOSTAVKA, Ul. Malays Proletarskaya ZD. 18A, Pomeshch. 53/3, Yaroslavl 150001, Russia; Secondary sanctions risk: this person is designated for operating or having operated in a sector of the Russian Federation economy determined to support Russia's military-industrial base pursuant to section 11 of Executive Order 14024, as amended by Executive Order 14114.; Tax ID No. 7604383648 (Russia); Registration Number 1227600004279 (Russia) [RUSSIA-EO14024].

Designated pursuant to section 1(a)(i) of E.O. 14024 for operating or having operated in the manufacturing sector of the Russian Federation economy.

111. LTD BINA GROUP (a.k.a. BINA GRUPP), Ul. Elektrozavodskaya D. 27, Str. 7, Moscow 107023, Russia; Secondary sanctions risk: this person is designated for operating or having operated in a sector of the Russian Federation economy determined to support Russia's military-industrial base pursuant to section 11 of Executive Order 14024, as amended by Executive Order 14114.; Tax ID No. 7706725428 (Russia); Registration Number 1097746585452 (Russia) [RUSSIA-EO14024].

Designated pursuant to section 1(a)(i) of E.O. 14024 for operating or having operated in the manufacturing sector of the Russian Federation economy.

112. OTRADNENSKAYA PAPER AND CARTON FACTORY LIMITED LIABILITY COMPANY (a.k.a. OTRADNENSKAYA P AND C FACTORY LLC; a.k.a. OTRADNENSKAYA P & C FACTORY LLC), Ul. Tsentralnaya D. 4, Pom/Of/Et 4/405/4, Otradnyy 187330, Russia; Secondary sanctions risk: this person is designated for operating or having operated in a sector of the Russian Federation economy determined to support Russia's military-industrial base pursuant to section 11 of Executive Order 14024, as amended by Executive Order 14114.; Tax ID No. 4706042352 (Russia); Registration Number 1214700011019 (Russia) [RUSSIA-EO14024].

Designated pursuant to section 1(a)(i) of E.O. 14024 for operating or having operated in the manufacturing sector of the Russian Federation economy.

113. PROIZVODSTVENNO KOMMERCHESKAYA KOMPANIYA VIVA (a.k.a. LIMITED LIABILITY COMPANY PRODUCTION AND COMMERCIAL COMPANY VIVA), Ul. Bolshava Dorogomilovskaya D. 6, Str. 1, Pom. 1 Komnaty 1-7; 7A, Moscow 121059, Russia; Tax ID No. 7730611735 (Russia); Registration Number 1097746363043 (Russia) [RUSSIA-EO14024].

Designated pursuant to section 1(a)(i) of E.O. 14024 for operating or having operated in the metals and mining sector of the Russian Federation economy.

114. ALBAIT AL KHALEEJE GENERAL TRADING LLC (a.k.a. NORTH SOUTH CARGO), Industrial Area 18, Warehouses Lands, Warehouses 16-17, Al Maliha Street, Sharjah, United Arab Emirates; Secondary sanctions risk: this person is designated for operating or having operated in a sector of the Russian Federation economy determined to support Russia's military-industrial base pursuant to section 11 of Executive Order 14024, as amended by Executive Order 14114.; Organization Established Date 21 Nov 1994; Registration Number 118607 (United Arab Emirates) [RUSSIA-EO14024].

Designated pursuant to section 1(a)(i) of E.O. 14024 for operating or having operated in the manufacturing sector of the Russian Federation economy.

115. LIMITED LIABILITY COMPANY SPRING ELEKTRONIKS (a.k.a. SPRING ELECTRONICS), Prkt Malookhtinskii D. 61, Lit. A, Pomeshch. 2-N, Office 5/2, Saint Petersburg 195112, Russia; Secondary sanctions risk: this person is designated for operating or having operated in a sector of the Russian Federation economy determined to support Russia's military-industrial base pursuant to section 11 of Executive Order 14024, as amended by Executive Order 14114.; Tax ID No. 7806259957 (Russia); Registration Number 1177847007381 (Russia) [RUSSIA-EO14024].

Designated pursuant to section 1(a)(i) of E.O. 14024 for operating or having operated in the technology sector of the Russian Federation economy.

116. COMPONENT LOGISTIC LIMITED LIABILITY COMPANY, Pr-Kt Veteranov D. 63, Lit. A, Kv. 46, Saint Petersburg 198255, Russia; Secondary sanctions risk: this person is designated for operating or having operated in a sector of the Russian Federation economy determined to support Russia's military-industrial base pursuant to section 11 of Executive Order 14024, as amended by Executive Order 14114.; Organization Established Date 24 Mar 2021; Tax ID No. 7805777226 (Russia); Registration Number 1217800045462 (Russia) [RUSSIA-EO14024].

Designated pursuant to section 1(a)(i) of E.O. 14024 for operating or having operated in the technology sector of the Russian Federation economy.

117. GMM FZE, PO Box SHJ-124903, Sharjah, United Arab Emirates; Secondary sanctions risk: this person is designated for operating or having operated in a sector of the Russian Federation economy determined to support Russia's military-industrial base pursuant to section 11 of Executive Order 14024, as amended by Executive Order 14114.; Organization Established Date 13 Apr 2017; License 18050 (United Arab Emirates) [RUSSIA-EO14024].

Designated pursuant to section 1(a)(i) of E.O. 14024 for operating or having operated in the technology sector of the Russian Federation economy.

118. GMM MANAGEMENT DMCC, Dubai, United Arab Emirates; Secondary sanctions risk: this person is designated for operating or having operated in a sector of the Russian Federation economy determined to support Russia's military-industrial base pursuant to section 11 of Executive Order 14024, as amended by Executive Order 14114.; License DMCC-786039 (United Arab Emirates); Economic Register Number (CBLS) 11554900 (United Arab Emirates) [RUSSIA-EO14024].

Designated pursuant to section 1(a)(i) of E.O. 14024 for operating or having operated in the technology sector of the Russian Federation economy.

119. LAHIC ENERGY MAHDUD MASULIYYATLI CAMIYYATI, Qizil Sharq Harbi Shahar, Baku AZ1065, Azerbaijan; Secondary sanctions risk: this person is designated for operating or having operated in a sector of the Russian Federation economy determined to support Russia's military-industrial base pursuant to section 11 of Executive Order 14024, as amended by Executive Order 14114.; Organization Established Date 29 Oct 2019; Tax ID No. 1306384861 (Azerbaijan) [RUSSIA-EO14024].

Designated pursuant to section 1(a)(i) of E.O. 14024 for operating or having operated in the technology sector of the Russian Federation economy.

120. AKTSIONERNOE OBSHCHESTVO VNIPIGAZDOBYCHA, 4, Sakko and Vantsetti Street, Saratov 410012, Russia; Secondary sanctions risk: this person is designated for operating or having operated in a sector of the Russian Federation economy determined to support Russia's military-industrial base pursuant to section 11 of Executive Order 14024, as amended by Executive Order 14114.; Tax ID No. 6455010081 (Russia); Registration Number 1026403670127 (Russia) [RUSSIA-EO14024].

Designated pursuant to section 1(a)(i) of E.O. 14024 for operating or having operated in the construction sector of the Russian Federation economy.

121. NEFTEGAZSTROY (a.k.a. “NGS”), Ul. Lenina D. 21/1, Neftekamsk 452680, Russia; Ul. Industrialnaya D. 15, K.A., Neftekamsk 452680, Russia; Secondary sanctions risk: this person is designated for operating or having operated in a sector of the Russian Federation economy determined to support Russia's military-industrial base pursuant to section 11 of Executive Order 14024, as amended by Executive Order 14114.; Tax ID No. 0253013650 (Russia); Registration Number 1020201432261 (Russia) [RUSSIA-EO14024].

Designated pursuant to section 1(a)(i) of E.O. 14024 for operating or having operated in the construction sector of the Russian Federation economy.

Designated pursuant to section 1(a)(i) of E.O. 14024 for operating or having operated in the technology sector of the Russian Federation economy.

123. IPM LIMITED (a.k.a. B & W CONSULTING), Suite A, 6/F, Ritz Plaza, 122 Austin Road, Tsimshatsui, Kowloon, Hong Kong, China; 1080, Blindengasse 46/15, Vienna, Austria; Secondary sanctions risk: this person is designated for operating or having operated in a sector of the Russian Federation economy determined to support Russia's military-industrial base pursuant to section 11 of Executive Order 14024, as amended by Executive Order 14114.; Organization Established Date 23 Nov 2012; Registration Number 1829992 (Hong Kong) [RUSSIA-EO14024].

Designated pursuant to section 1(a)(i) of E.O. 14024 for operating or having operated in the technology sector of the Russian Federation economy.

Designated pursuant to section 1(a)(i) of E.O. 14024 for operating or having operated in the technology sector of the Russian Federation economy.

Designated pursuant to section 1(a)(i) of E.O. 14024 for operating or having operated in the technology sector of the Russian Federation economy.

127. ALADDIN RD, Ul. Dokukina, D. 16, Korp. 1, Moscow 129226, Russia; Secondary sanctions risk: this person is designated for operating or having operated in a sector of the Russian Federation economy determined to support Russia's military-industrial base pursuant to section 11 of Executive Order 14024, as amended by Executive Order 14114.; Tax ID No. 7719165935 (Russia); Registration Number 1027739490415 (Russia) [RUSSIA-EO14024].

Designated pursuant to section 1(a)(i) of E.O. 14024 for operating or having operated in the technology sector of the Russian Federation economy.

128. AVIV LLC (a.k.a. AVIV GRUPP), Nikoloyamskaya St., 16/2, bldg. 6, Moscow 109240, Russia; Ul. 2-ya Karacharovskaya D. 1, str. 1, et. 2, kom 39, Moscow 109202, Russia; Secondary sanctions risk: this person is designated for operating or having operated in a sector of the Russian Federation economy determined to support Russia's military-industrial base pursuant to section 11 of Executive Order 14024, as amended by Executive Order 14114.; Tax ID No. 7722837270 (Russia); Registration Number 1147746259924 (Russia) [RUSSIA-EO14024].

Designated pursuant to section 1(a)(i) of E.O. 14024 for operating or having operated in the technology sector of the Russian Federation economy.

129. CYBERSECURITY CENTER LLC (a.k.a. “OOO TSKB”), Generala Martynova St., 3, Room 1, Chelyabinsk 454076, Russia; Secondary sanctions risk: this person is designated for operating or having operated in a sector of the Russian Federation economy determined to support Russia's military-industrial base pursuant to section 11 of Executive Order 14024, as amended by Executive Order 14114.; Tax ID No. 7448223757 (Russia); Registration Number 1207400010905 (Russia) [RUSSIA-EO14024].

Designated pursuant to section 1(a)(i) of E.O. 14024 for operating or having operated in the technology sector of the Russian Federation economy.

130. ELAR, Shosse Leningradskoe, D. 15, Moscow 125171, Russia; Ul. 1-Ya Sovetskaya D. 36V chast/etazh 2/2 kom. 2,3,4,5, Rabochi pos., Shakhovskaya 143700, Russia; Secondary sanctions risk: this person is designated for operating or having operated in a sector of the Russian Federation economy determined to support Russia's military-industrial base pursuant to section 11 of Executive Order 14024, as amended by Executive Order 14114.; Tax ID No. 7743028263 (Russia); Registration Number 1037700057780 (Russia) [RUSSIA-EO14024].

Designated pursuant to section 1(a)(i) of E.O. 14024 for operating or having operated in the technology sector of the Russian Federation economy.

131. LEKTRONNYI ARKHIV (a.k.a. “ELAR”), Bumazhnyi Proezd D. 14, Str. 2, Moscow 127015, Russia; Sh. Leningradskoe Str. 25A, Office 9/3, Khimki 141402, Russia; Secondary sanctions risk: this person is designated for operating or having operated in a sector of the Russian Federation economy determined to support Russia's military-industrial base pursuant to section 11 of Executive Order 14024, as amended by Executive Order 14114.; Tax ID No. 9705001507 (Russia); Registration Number 5147746108868 (Russia) [RUSSIA-EO14024].

Designated pursuant to section 1(a)(i) of E.O. 14024 for operating or having operated in the technology sector of the Russian Federation economy.

132. HARDBERRY LIMITED LIABILITY COMPANY (a.k.a. HARDBERRY RUSFACTOR LLC; a.k.a. KHARDBERRI RUSFAKTOR), Ul. Pererva D. 55, Kv. 22, Moscow 109451, Russia; Secondary sanctions risk: this person is designated for operating or having operated in a sector of the Russian Federation economy determined to support Russia's military-industrial base pursuant to section 11 of Executive Order 14024, as amended by Executive Order 14114.; Tax ID No. 7728845817 (Russia); Registration Number 1137746479310 (Russia) [RUSSIA-EO14024].

Designated pursuant to section 1(a)(i) of E.O. 14024 for operating or having operated in the technology sector of the Russian Federation economy.

133. JOINT STOCK COMPANY INTEGRAL ZAPAD (a.k.a. AKTSIONERNOE OBSHCHESTVO INTEGRAL ZAPAD), Ul. Babushkina D. 7, Office 21, Smolensk 214031, Russia; Secondary sanctions risk: this person is designated for operating or having operated in a sector of the Russian Federation economy determined to support Russia's military-industrial base pursuant to section 11 of Executive Order 14024, as amended by Executive Order 14114.; Tax ID No. 6732139675 (Russia); Registration Number 1176733001840 (Russia) [RUSSIA-EO14024].

Designated pursuant to section 1(a)(i) of E.O. 14024 for operating or having operated in the technology sector of the Russian Federation economy.

134. JOINT STOCK COMPANY RAMEC VS (a.k.a. AO RAMEK VS), 5th Verhniy lane, 1/A/2, Saint Petersburg 194292, Russia; Ul. Obruchevykh D. 1, Saint Petersburg 195220, Russia; Secondary sanctions risk: this person is designated for operating or having operated in a sector of the Russian Federation economy determined to support Russia's military-industrial base pursuant to section 11 of Executive Order 14024, as amended by Executive Order 14114.; Tax ID No. 7804060845 (Russia); Registration Number 1027802486502 (Russia) [RUSSIA-EO14024].

Designated pursuant to section 1(a)(i) of E.O. 14024 for operating or having operated in the technology sector of the Russian Federation economy.

135. JOINT STOCK COMPANY SEA PROJECT (a.k.a. ZAO SI PROEKT), Ul. Marshala Govorova D. 52, Saint Petersburg 198095, Russia; Pl. Konstitutsii D. 7, Lit. A, Pom. 146N, Saint Petersburg 196191, Russia; Secondary sanctions risk: this person is designated for operating or having operated in a sector of the Russian Federation economy determined to support Russia's military-industrial base pursuant to section 11 of Executive Order 14024, as amended by Executive Order 14114.; Tax ID No. 7825503960 (Russia); Registration Number 1037843083849 (Russia) [RUSSIA-EO14024].

Designated pursuant to section 1(a)(i) of E.O. 14024 for operating or having operated in the technology sector of the Russian Federation economy.

136. LIMITED LIABILITY COMPANY MIRP INTELLECTUAL SYSTEMS (a.k.a. MIRP INTELLECTUAL SYSTEMS INC; a.k.a. “MIRP IS LTD”), Dimitrovskoe SH D. 100, Str. 2, Moscow 127591, Russia; Lenina st., 13-11, Dubna 141983, Russia; Secondary sanctions risk: this person is designated for operating or having operated in a sector of the Russian Federation economy determined to support Russia's military-industrial base pursuant to section 11 of Executive Order 14024, as amended by Executive Order 14114.; Tax ID No. 5010036848 (Russia); Registration Number 1085010000822 (Russia) [RUSSIA-EO14024].

Designated pursuant to section 1(a)(i) of E.O. 14024 for operating or having operated in the technology sector of the Russian Federation economy.

137. OOO YUPEL (a.k.a. UPEL), prospekt Moskovski, d. 189/4, pom. 1/12, Voronezh 394066, Russia; Secondary sanctions risk: this person is designated for operating or having operated in a sector of the Russian Federation economy determined to support Russia's military-industrial base pursuant to section 11 of Executive Order 14024, as amended by Executive Order 14114.; Tax ID No. 3662175985 (Russia); Registration Number 1123668023566 (Russia) [RUSSIA-EO14024].

Designated pursuant to section 1(a)(i) of E.O. 14024 for operating or having operated in the technology sector of the Russian Federation economy.

138. RED DOLPHIN JOINT STOCK COMPANY (a.k.a. AO KRASNYI DELFIN; a.k.a. I SPHERA JOINT STOCK COMPANY), Per. Khimicheskii D. 1, Lit. BE, Floor 3, Pomeshch. 60, Saint Petersburg 198095, Russia; Secondary sanctions risk: this person is designated for operating or having operated in a sector of the Russian Federation economy determined to support Russia's military-industrial base pursuant to section 11 of Executive Order 14024, as amended by Executive Order 14114.; Registration ID 1077847590040 (Russia); Tax ID No. 7805439611 (Russia) [RUSSIA-EO14024].

Designated pursuant to section 1(a)(i) of E.O. 14024 for operating or having operated in the technology sector of the Russian Federation economy.

139. SMART TURBO TECHNOLOGY LTD (a.k.a. OOO SMARTTURBOTEKH; a.k.a. SMART TURBO TEKHNOLODZHI; a.k.a. SMARTTURBOTECH LTD), ul. Kazanskaya, D. 1/25, lit. A, office 31-33, Saint Petersburg 191186, Russia; Secondary sanctions risk: this person is designated for operating or having operated in a sector of the Russian Federation economy determined to support Russia's military-industrial base pursuant to section 11 of Executive Order 14024, as amended by Executive Order 14114.; Tax ID No. 7722492033 (Russia); Registration Number 1207700352100 (Russia) [RUSSIA-EO14024].

Designated pursuant to section 1(a)(i) of E.O. 14024 for operating or having operated in the technology sector of the Russian Federation economy.

140. SUSU COMPUTER ENGINEERING CENTER (a.k.a. TSENTR KOMPYUTERNOGO INZHINIRINGA), Ordzhonikidze St., 50, Chelyabinsk 454091, Russia; Secondary sanctions risk: this person is designated for operating or having operated in a sector of the Russian Federation economy determined to support Russia's military-industrial base pursuant to section 11 of Executive Order 14024, as amended by Executive Order 14114.; Tax ID No. 7448199173 (Russia); Registration Number 1167456142424 (Russia) [RUSSIA-EO14024].

Designated pursuant to section 1(a)(i) of E.O. 14024 for operating or having operated in the technology sector of the Russian Federation economy.

141. SWD EMBEDDED SYSTEMS (a.k.a. “LLC SVD VS”; a.k.a. “SWD ES LTD”), Kuznetsovskaya st., 19, Saint Petersburg 196128, Russia; PR-KT Moskovskii D. 212, Lit. A, Et/Vkh/P/Of, 2/84N/22/2077, Saint Petersburg 196066, Russia; Secondary sanctions risk: this person is designated for operating or having operated in a sector of the Russian Federation economy determined to support Russia's military-industrial base pursuant to section 11 of Executive Order 14024, as amended by Executive Order 14114.; Tax ID No. 7810267943 (Russia); Registration Number 1027804848741 (Russia) [RUSSIA-EO14024].

Designated pursuant to section 1(a)(i) of E.O. 14024 for operating or having operated in the technology sector of the Russian Federation economy.

142. ALPHA IMPEX ITHALAT VE IHRACAT DIS TICARET LIMITED SIRKETI (a.k.a. ALPHA IMPEX IMPORT EXPORT FOREIGN TRADE LLC), Atakoy 7-8-9-10, Kisim Mah Cobancesme E-5 Yan Yol, Cad. A Blok No: 22/1 Ic Kapi No: 30, Bakirkoy, Istanbul, Turkey; Secondary sanctions risk: this person is designated for operating or having operated in a sector of the Russian Federation economy determined to support Russia's military-industrial base pursuant to section 11 of Executive Order 14024, as amended by Executive Order 14114.; Organization Established Date 13 Apr 2022 [RUSSIA-EO14024].

Designated pursuant to section 1(a)(i) of E.O. 14024 for operating or having operated in the technology sector of the Russian Federation economy.

143. JINMINGSHENG TECHNOLOGY HK CO LIMITED, Room 1838, Guoli Building, Zhonhang Rd, Futian District, Shenzhen 518031, China; Room 61868 6/F, Golconda Trade Center, 163 Zhenhau Rd, Futian District, Shenzhen 518031, China; Hong Kong, China; Secondary sanctions risk: this person is designated for operating or having operated in a sector of the Russian Federation economy determined to support Russia's military-industrial base pursuant to section 11 of Executive Order 14024, as amended by Executive Order 14114.; Organization Established Date 09 Dec 2008; Company Number 1292952 (Hong Kong); Business Registration Number 50093445 (Hong Kong) [RUSSIA-EO14024].

Designated pursuant to section 1(a)(i) of E.O. 14024 for operating or having operated in the technology sector of the Russian Federation economy.

144. CAROVILLI TRADING SRO, Zamocka 7074/30, Bratislava 1, Bratislava 81101, Slovakia; Secondary sanctions risk: this person is designated for operating or having operated in a sector of the Russian Federation economy determined to support Russia's military-industrial base pursuant to section 11 of Executive Order 14024, as amended by Executive Order 14114.; Organization Established Date 13 Feb 2014; Tax ID No. 2024072369 (Slovakia) [RUSSIA-EO14024].

Designated pursuant to section 1(a)(i) of E.O. 14024 for operating or having operated in the technology sector of the Russian Federation economy.

145. COMPLIGA (a.k.a. KOMPLIGA), Per. Spasskii D. 14/35, Lit. A, Pom. 71N, Office 405, Saint Petersburg 190031, Russia; Secondary sanctions risk: this person is designated for operating or having operated in a sector of the Russian Federation economy determined to support Russia's military-industrial base pursuant to section 11 of Executive Order 14024, as amended by Executive Order 14114.; Tax ID No. 7838083791 (Russia); Registration Number 1187847376441 (Russia) [RUSSIA-EO14024].

Designated pursuant to section 1(a)(i) of E.O. 14024 for operating or having operated in the technology sector of the Russian Federation economy.

146. PIXEL DEVICES LIMITED (a.k.a. PIXEL DEVICES LTD), 16/F, New Hennessey Tower, 263 Hennessey Road, Wanchai, Hong Kong, China; Secondary sanctions risk: this person is designated for operating or having operated in a sector of the Russian Federation economy determined to support Russia's military-industrial base pursuant to section 11 of Executive Order 14024, as amended by Executive Order 14114.; Identification Number 2569276 (Hong Kong); alt. Identification Number 68097456 (Hong Kong) [RUSSIA-EO14024].

Designated pursuant to section 1(a)(i) of E.O. 14024 for operating or having operated in the technology sector of the Russian Federation economy.

147. AKTSIONERNOE OBSHCHESTVO CONSTRUCTION BUREAU ELECTRICAL PRODUCTS XXI CENTURY (a.k.a. AO KBE XXI CENTURY; a.k.a. AO KBE XXI VEKA; a.k.a. JOINT STOCK COMPANY DESIGN OFFICE OF ELECTROITEMS; a.k.a. JSC KBE XXI CENTURY; a.k.a. XXI CENTURY ELECTRO ITEMS DESIGN OFFICE JOINT STOCK COMPANY), Ul. Lermontova D. 2, Sarapul 427960, Russia; Secondary sanctions risk: this person is designated for operating or having operated in a sector of the Russian Federation economy determined to support Russia's military-industrial base pursuant to section 11 of Executive Order 14024, as amended by Executive Order 14114.; Tax ID No. 1827013520 (Russia); Registration Number 1021800997228 (Russia) [RUSSIA-EO14024].

Designated pursuant to section 1(a)(i) of E.O. 14024 for operating or having operated in the manufacturing sector of the Russian Federation economy.

148. AKTSIONERNOE OBSHCHESTVO PROEKTNO KONSTRUKTORSKOE BYURO RIO (a.k.a. AO PKB RIO), d. 19 k. 9 litera Zh, ul. Uralskaya, Saint Petersburg 199155, Russia; Secondary sanctions risk: this person is designated for operating or having operated in a sector of the Russian Federation economy determined to support Russia's military-industrial base pursuant to section 11 of Executive Order 14024, as amended by Executive Order 14114.; Tax ID No. 7805069865 (Russia); Registration Number 1027800540162 (Russia) [RUSSIA-EO14024].

Designated pursuant to section 1(a)(i) of E.O. 14024 for operating or having operated in the manufacturing sector of the Russian Federation economy.

149. AKTSIONERNOE OBSHCHESTVO ZAVOD PROTON, PL. Shokina D. 1, STR. 6, Zelenograd 124498, Russia; Secondary sanctions risk: this person is designated for operating or having operated in a sector of the Russian Federation economy determined to support Russia's military-industrial base pursuant to section 11 of Executive Order 14024, as amended by Executive Order 14114.; Tax ID No. 7735127119 (Russia); Registration Number 1037735024744 (Russia) [RUSSIA-EO14024].

Designated pursuant to section 1(a)(i) of E.O. 14024 for operating or having operated in the manufacturing sector of the Russian Federation economy.

150. JOINT STOCK COMPANY ELECTROAVTOMATIKA, ul. Zavodskaya d. 9, Tolyatti 355008, Russia; Secondary sanctions risk: this person is designated for operating or having operated in a sector of the Russian Federation economy determined to support Russia's military-industrial base pursuant to section 11 of Executive Order 14024, as amended by Executive Order 14114.; Tax ID No. 2636008464 (Russia); Registration Number 1022601979894 (Russia) [RUSSIA-EO14024].

Designated pursuant to section 1(a)(i) of E.O. 14024 for operating or having operated in the manufacturing sector of the Russian Federation economy.

151. JOINT STOCK COMPANY MEMOTHERM MM, Ul. Bronnitskaya D. 15, Pomeshch. 68, Podolsk 142103, Russia; Secondary sanctions risk: this person is designated for operating or having operated in a sector of the Russian Federation economy determined to support Russia's military-industrial base pursuant to section 11 of Executive Order 14024, as amended by Executive Order 14114.; Tax ID No. 7722009140 (Russia); Registration Number 1027700037705 (Russia) [RUSSIA-EO14024].

Designated pursuant to section 1(a)(i) of E.O. 14024 for operating or having operated in the manufacturing sector of the Russian Federation economy.

152. JOINT STOCK COMPANY RESEARCH AND PRODUCTION ENTERPRISE IZMERITEL, UL. Babushkina D. 5, Smolensk 214031, Russia; Secondary sanctions risk: this person is designated for operating or having operated in a sector of the Russian Federation economy determined to support Russia's military-industrial base pursuant to section 11 of Executive Order 14024, as amended by Executive Order 14114.; Tax ID No. 6731036814 (Russia); Registration Number 1026701422076 (Russia) [RUSSIA-EO14024].

Designated pursuant to section 1(a)(i) of E.O. 14024 for operating or having operated in the manufacturing sector of the Russian Federation economy.

153. JOINT STOCK COMPANY UMIRS (a.k.a. AO YUMIRS), Antonova st., 3, Penza 440600, Russia; Secondary sanctions risk: this person is designated for operating or having operated in a sector of the Russian Federation economy determined to support Russia's military-industrial base pursuant to section 11 of Executive Order 14024, as amended by Executive Order 14114.; Tax ID No. 5835015359 (Russia); Registration Number 1025801217947 (Russia) [RUSSIA-EO14024].

Designated pursuant to section 1(a)(i) of E.O. 14024 for operating or having operated in the manufacturing sector of the Russian Federation economy.

154. LIMITED LIABILITY COMPANY ELIARS, Konstruktora Guskova st., 8, bldg. 1, Zelenograd, Moscow 124460, Russia; Secondary sanctions risk: this person is designated for operating or having operated in a sector of the Russian Federation economy determined to support Russia's military-industrial base pursuant to section 11 of Executive Order 14024, as amended by Executive Order 14114.; Tax ID No. 7735140825 (Russia); Registration Number 1157746097629 (Russia) [RUSSIA-EO14024].

Designated pursuant to section 1(a)(i) of E.O. 14024 for operating or having operated in the manufacturing sector of the Russian Federation economy.

155. LIMITED LIABILITY COMPANY HOTU TENT (a.k.a. KHOTU TENT), Truda St., 1, Yakutsk 677000, Russia; Ul. Kirova D. 31/1, Kv. 92, Yakutsk 677027, Russia; Secondary sanctions risk: this person is designated for operating or having operated in a sector of the Russian Federation economy determined to support Russia's military-industrial base pursuant to section 11 of Executive Order 14024, as amended by Executive Order 14114.; Tax ID No. 1435347144 (Russia); Registration Number 1191447014714 (Russia) [RUSSIA-EO14024].

Designated pursuant to section 1(a)(i) of E.O. 14024 for operating or having operated in the manufacturing sector of the Russian Federation economy.

156. LIMITED LIABILITY COMPANY LENCABEL (a.k.a. LENKABEL; a.k.a. OBSHCHESTVO S OGRANICHENNOY OTVETSTVENNOSTYU LENCABEL), Ul. Samoilovoi D. 5, Lit. I, Pomeshch. 11N, Office 31-32, Saint Petersburg 192102, Russia; Secondary sanctions risk: this person is designated for operating or having operated in a sector of the Russian Federation economy determined to support Russia's military-industrial base pursuant to section 11 of Executive Order 14024, as amended by Executive Order 14114.; Tax ID No. 7816339601 (Russia); Registration Number 1167847387366 (Russia) [RUSSIA-EO14024].

Designated pursuant to section 1(a)(i) of E.O. 14024 for operating or having operated in the manufacturing sector of the Russian Federation economy.

157. LIMITED LIABILITY COMPANY NEWTON TECHNICS (a.k.a. LLC NEWTON TECHNIKS), Ferrosplavnaya st., 126A, office 4204, Chelyabinsk 454084, Russia; Secondary sanctions risk: this person is designated for operating or having operated in a sector of the Russian Federation economy determined to support Russia's military-industrial base pursuant to section 11 of Executive Order 14024, as amended by Executive Order 14114.; Tax ID No. 7453330433 (Russia); Registration Number 1197456035215 (Russia) [RUSSIA-EO14024].

Designated pursuant to section 1(a)(i) of E.O. 14024 for operating or having operated in the manufacturing sector of the Russian Federation economy.

158. LIMITED LIABILITY COMPANY QUANTUM OPTICS (a.k.a. OOO QUANTUM OPTICS; a.k.a. QUANTUM OPTICS LTD), Ul. Serdobolskaya D. 64, Lit. K, Pomeshch. 11-N, Kom. 10, Saint Petersburg 197342, Russia; Beloostrovskaya 22, Office 415, Saint Petersburg 197342, Russia; Secondary sanctions risk: this person is designated for operating or having operated in a sector of the Russian Federation economy determined to support Russia's military-industrial base pursuant to section 11 of Executive Order 14024, as amended by Executive Order 14114.; Tax ID No. 7801562614 (Russia); Registration Number 1117847563921 (Russia) [RUSSIA-EO14024].

Designated pursuant to section 1(a)(i) of E.O. 14024 for operating or having operated in the manufacturing sector of the Russian Federation economy.

159. LIMITED LIABILITY COMPANY RADIOIZMERENIYA, ul. Soldatskaya, d. 8, pomeshch. 205-2, Kazan 420066, Russia; Secondary sanctions risk: this person is designated for operating or having operated in a sector of the Russian Federation economy determined to support Russia's military-industrial base pursuant to section 11 of Executive Order 14024, as amended by Executive Order 14114.; Tax ID No. 1658229360 (Russia); Registration Number 1201600086852 (Russia) [RUSSIA-EO14024].

Designated pursuant to section 1(a)(i) of E.O. 14024 for operating or having operated in the manufacturing sector of the Russian Federation economy.

160. LIMITED LIABILITY COMPANY TRADING AND PRODUCTION COMPLEX MAXIMUM (a.k.a. LLC TPK MAXIMUM; a.k.a. TORGOVO PROIZVODSTVENNYI KOMPLEKS MAKSIMUM; a.k.a. TPK MAKSIMUM), Ul. Malakhovskogo D. 52, Pomeshch. 10, Voronezh 394019, Russia; Secondary sanctions risk: this person is designated for operating or having operated in a sector of the Russian Federation economy determined to support Russia's military-industrial base pursuant to section 11 of Executive Order 14024, as amended by Executive Order 14114.; Tax ID No. 3662204227 (Russia); Registration Number 1143668026435 (Russia) [RUSSIA-EO14024].

Designated pursuant to section 1(a)(i) of E.O. 14024 for operating or having operated in the manufacturing sector of the Russian Federation economy.

161. LLC ZAVOD SPETSAGREGAT, UL. 8 Iyulya 10 A, Miass 456300, Russia; Secondary sanctions risk: this person is designated for operating or having operated in a sector of the Russian Federation economy determined to support Russia's military-industrial base pursuant to section 11 of Executive Order 14024, as amended by Executive Order 14114.; Tax ID No. 7448069375 (Russia); Registration Number 1057422041005 (Russia) [RUSSIA-EO14024].

Designated pursuant to section 1(a)(i) of E.O. 14024 for operating or having operated in the manufacturing sector of the Russian Federation economy.

162. MANUFACTURING COMPANY LTD LEMA, Novgorodsky ave., 32B, office 311, Arkhangelsk 163002, Russia; Secondary sanctions risk: this person is designated for operating or having operated in a sector of the Russian Federation economy determined to support Russia's military-industrial base pursuant to section 11 of Executive Order 14024, as amended by Executive Order 14114.; Tax ID No. 2901152242 (Russia); Registration Number 1062901063170 (Russia) [RUSSIA-EO14024].

Designated pursuant to section 1(a)(i) of E.O. 14024 for operating or having operated in the manufacturing sector of the Russian Federation economy.

163. OOO GIKEL, ul. Druzhinnikov, d. 5 ofis 411, Voronezh 394026, Russia; Secondary sanctions risk: this person is designated for operating or having operated in a sector of the Russian Federation economy determined to support Russia's military-industrial base pursuant to section 11 of Executive Order 14024, as amended by Executive Order 14114.; Tax ID No. 3662995875 (Russia); Registration Number 1153668022243 (Russia) [RUSSIA-EO14024].

Designated pursuant to section 1(a)(i) of E.O. 14024 for operating or having operated in the manufacturing sector of the Russian Federation economy.

164. UNIFIED METALWORKING CENTER (a.k.a. EDINYI TSENTR METALLOOBRABOTKI; a.k.a. “ETSM”), 11V Mikhailova St., Saint Petersburg 195009, Russia; Pr-Kt Engelsa D. 27, Lit. K, Pomeshch. 1-N, Kom. 52, Saint Petersburg 194156, Russia; Secondary sanctions risk: this person is designated for operating or having operated in a sector of the Russian Federation economy determined to support Russia's military-industrial base pursuant to section 11 of Executive Order 14024, as amended by Executive Order 14114.; Tax ID No. 7802574250 (Russia); Registration Number 1167847190169 (Russia) [RUSSIA-EO14024].

Designated pursuant to section 1(a)(i) of E.O. 14024 for operating or having operated in the manufacturing sector of the Russian Federation economy.

BILLING CODE 4810-AL-P

BILLING CODE 4810-AL-C

Designated pursuant to section 1(a)(i) of E.O. 14024 for operating or having operated in the defense and related materiel sector of the Russian Federation economy.

168. RG SOLUTIONS LIMITED, Room 606, 6/F, Celebrity Commercial Center, 64 Castle Peak Road, Sham Shui Po, Kowloon, Hong Kong, China; Secondary sanctions risk: this person is designated for operating or having operated in a sector of the Russian Federation economy determined to support Russia's military-industrial base pursuant to section 11 of Executive Order 14024, as amended by Executive Order 14114.; Organization Established Date 02 Jul 2014; Commercial Registry Number 2115045 (Hong Kong); Business Registration Number 63526362 (Hong Kong) [RUSSIA-EO14024].

Designated pursuant to section 1(a)(i) of E.O. 14024 for operating or having operated in the defense and related materiel sector of the Russian Federation economy.

Designated pursuant to section 1(a)(i) of E.O. 14024 for operating or having operated in the defense and related materiel sector of the Russian Federation economy.

170. AKSIOMA LIMITED LIABILITY COMPANY (a.k.a. “AKSIOMA”; a.k.a. “LLC AXIOM”), Ul. Entuziastov 1-YA D. 12, Chast Kom #15, Moscow 111024, Russia; Organization Established Date 10 May 2017; Tax ID No. 7720380736 (Russia); Registration Number 1177746461012 (Russia) [RUSSIA-EO14024].

Designated pursuant to section 1(a)(vi)(B) of E.O. 14024 for having materially assisted, sponsored, or provided financial, material, or technological support for, or goods or services to or in support of, RADIOAVTOMATIKA LLC, a person whose property and interests in property are blocked pursuant to E.O. 14024.

171. ALFA LIMITED LIABILITY COMPANY (a.k.a. “LLC ALFA”), Ul. 2-YA Alekseevskaya D. 7, Lit. A, Pomeshch. 25N, Office 2, Saint Petersburg 197375, Russia; Organization Established Date 15 Feb 2022; Tax ID No. 7802921915 (Russia); Registration Number 1227800017818 (Russia) [RUSSIA-EO14024].

Designated pursuant to section 1(a)(vi)(B) of E.O. 14024 for having materially assisted, sponsored, or provided financial, material, or technological support for, or goods or services to or in support of, RADIOAVTOMATIKA LLC, a person whose property and interests in property are blocked pursuant to E.O. 14024.

172. BIMLOGIC LIMITED LIABILITY COMPANY (a.k.a. BIMLOGIC LLC), PR-KT Narodnogo Opolcheniya D. 10, Lit. A, Pomeshch. 238-N, Office 238L, Saint Petersburg 198216, Russia; Organization Established Date 14 Apr 2022; Tax ID No. 7807255955 (Russia); Registration Number 1227800047200 (Russia) [RUSSIA-EO14024].

Designated pursuant to section 1(a)(vi)(B) of E.O. 14024 for having materially assisted, sponsored, or provided financial, material, or technological support for, or goods or services to or in support of, NOVASTREAM LIMITED, a person whose property and interests in property are blocked pursuant to E.O. 14024.

173. GLOBAL KEY LIMITED LIABILITY COMPANY (a.k.a. “GLOBAL KEI”; a.k.a. “NOYFOX AS LTD.”), Ul. Ivana Fomina D. 6, Lit. B, Pomeshch. 402A, 402B, Saint Petersburg 194295, Russia; website global-key.ru; Organization Established Date 18 Aug 2015; Tax ID No. 7802536470 (Russia); Registration Number 1157847282119 (Russia) [RUSSIA-EO14024].

Designated pursuant to section 1(a)(vi)(B) of E.O. 14024 for having materially assisted, sponsored, or provided financial, material, or technological support for, or goods or services to or in support of, RADIOAVTOMATIKA LLC, a person whose property and interests in property are blocked pursuant to E.O. 14024.

174. JOINT STOCK COMPANY MILITECH (a.k.a. MILITECH JSCO), Ul. Lukinskaya D. 4, Pomeshch. 1, Moscow 119634, Russia; Organization Established Date 13 Sep 2022; Tax ID No. 9706026110 (Russia); Registration Number 1227700569810 (Russia) [RUSSIA-EO14024].

Designated pursuant to section 1(a)(vii) of E.O. 14024 for being owned or controlled by, or for having acted or purported to act for or on behalf of, directly or indirectly, SELIVERSTOV, Ivan Vladimirovich, a person whose property and interests in property are blocked pursuant to E.O. 14024.

175. LEDA LIMITED LIABILITY COMPANY (a.k.a. “LLC LEDA”), Ul. Gorbunova D. 2, Str. 3, Pomeshch. 31/2, Moscow 121596, Russia; Organization Established Date 21 Feb 2014; Tax ID No. 7731466061 (Russia); Registration Number 1147746159549 (Russia) [RUSSIA-EO14024].

Designated pursuant to section 1(a)(vii) of E.O. 14024 for being owned or controlled by, or for having acted or purported to act for or on behalf of, directly or indirectly, MOZHAYEV, Yegor Igoryevich, a person whose property and interests in property are blocked pursuant to E.O. 14024.

176. MILITECHTRADE LIMITED LIABILITY COMPANY (a.k.a. MILITECHTRADE LLC), Ul. Ryabinovaya D. 61A, Str. 1, Moscow 121471, Russia; Organization Established Date 19 Oct 2022; Tax ID No. 9706027480 (Russia); Registration Number 1227700679216 (Russia) [RUSSIA-EO14024].

Designated pursuant to section 1(a)(vii) of E.O. 14024 for being owned or controlled by, or for having acted or purported to act for or on behalf of, directly or indirectly, SELIVERSTOV, Ivan Vladimirovich, a person whose property and interests in property are blocked pursuant to E.O. 14024.

BILLING CODE 4810-AL-P

Designated pursuant to section 1(a)(i) of E.O. 14024 for operating or having operated in the defense and related materiel sector of the Russian Federation economy.

Designated pursuant to section 1(a)(iii) of E.O. 13382 for having provided, or attempted to provide, financial, material, technological or other support for, or goods or services in support of 27TH SCIENTIFIC CENTER, a person whose property and interests in property are blocked pursuant to E.O. 13382.

BILLING CODE 4810-AL-C

Designated pursuant to section 1(a)(vii) of E.O. 14024 for being owned or controlled by, or for having acted or purported to act for or on behalf of, directly or indirectly, GAVRYUCHENKOV, Andrei Viktorovich, a person whose property and interests in property are blocked pursuant to E.O. 14024.

Designated pursuant to section 1(a)(iii) of E.O. 13382 for having provided, or attempted to provide, financial, material, technological or other support for, or goods or services in support of GAVRYUCHENKOV, Andrei Viktorovich, a person whose property and interests in property are blocked pursuant to E.O. 13382.

B. On May 14, 2024, OFAC determined that the property and interests in property subject to U.S. jurisdiction of the following persons are blocked under the relevant sanctions authorities listed below.

Individual

1. BELOGLAZOV, Dmitrii Aleksandrovich, Russia; DOB 18 Feb 1968; POB Russia; nationality Russia; Gender Male (individual) [RUSSIA-EO14024].

Designated pursuant to section 1(a)(i) of E.O. 14024 for operating or having operated in the financial services sector of the Russian Federation economy.

Entities:

1. AKTSIONERNOE OBSHCHESTVO ILIADIS (a.k.a. JOINT STOCK COMPANY ILIADIS), Per. 3-1 Syromyatnicheskii D. 3/9 Str. 1, Moscow 105120, Russia; Tax ID No. 9709096348 (Russia); Registration Number 1237700470842 (Russia) [RUSSIA-EO14024].

Designated pursuant to section 1(a)(i) of E.O. 14024 for operating or having operated in the financial services sector of the Russian Federation economy.

Designated pursuant to section 1(a)(vii) of E.O. 14024 for being owned or controlled by, or for having acted or purported to act for or on behalf of, directly or indirectly AKTSIONERNOE OBSHCHESTVO ILIADIS, a person whose property and interests in property are blocked pursuant to E.O. 14024.

3. OBSHCHESTVO S OGRANICHENNOI OTVETSTVENNOSTIU TITUL (a.k.a. LIMITED LIABILITY COMPANY TITUL), Ul. Krasina, 7 str. 2, kom. 3, Moscow 123056, Russia; Tax ID No. 7703474952 (Russia); Registration Number 1197746281897 (Russia) [RUSSIA-EO14024].

Designated pursuant to section 1(a)(i) of E.O. 14024 for operating or having operated in the financial services sector of the Russian Federation economy.

C. On July 8, 2024, OFAC removed the following entry from the SDN List.

Entity

1. CSOFT DEVELOPMENT, Ul. Boitsovaya D. 17, K. 3, Pomeshch. 12 Komnatad 3B, Moscow 107150, Russia; Secondary sanctions risk: this person is designated for operating or having operated in a sector of the Russian Federation economy determined to support Russia's military-industrial base pursuant to section 11 of Executive Order 14024, as amended by Executive Order 14114.; Tax ID No. 7722570620 (Russia); Registration Number 1067746335711 (Russia) [RUSSIA-EO14024].

Dated: July 8, 2024.
Bradley T. Smith,
Director, Office of Foreign Assets Control, U.S. Department of the Treasury.

[FR Doc. 2024-15285 Filed 7-11-24; 8:45 am]

BILLING CODE 4810-AL-P